DEPARTMENT OF COMMERCE

National Oceanic and Atmospheric Administration

50 CFR Part 648

[Docket No. 251118-0171]

RIN 0648-BN23

Magnuson-Stevens Fishery Conservation and Management Act Provisions; Fisheries of the Northeastern United States; Northeast Multispecies Fishery; Framework Adjustment 69

AGENCY: National Marine Fisheries Service (NMFS), National Oceanic and Atmospheric Administration (NOAA), Commerce.

ACTION: Proposed rule; request for comments.

SUMMARY: NMFS proposes regulations to implement specifications and management measures in Framework Adjustment 69 to the Northeast Multispecies Fishery Management Plan, except for measures specific to Atlantic cod; approve Northeast multispecies (groundfish) sectors and allocations; establish recreational measures for several stocks; update common pool possession limits; and clarify and correct existing regulations. This action is necessary to respond to updated scientific information and achieve the goals and objectives of the fishery management plan. The proposed measures are intended to help prevent overfishing, rebuild overfished stocks, achieve optimum yield, and ensure that management measures are based on the best scientific information available.

DATES: Comments must be received by 5 p.m. EST on January 7, 2026.

ADDRESSES: A plain language summary of this proposed rule is available at: https://www.regulations.gov/docket/NOAA-NMFS-2025-0004. You may submit comments, identified by NOAA-NMFS-2025-0004, by the following method:

• Electronic Submission: Submit all electronic public comments via the Federal e-Rulemaking Portal. Go to https://www.regulations.gov and type NOAA-NMFS-2025-0004 in the Search box (note: copying and pasting the FDMS Docket Number directly from this document may not yield search results). Click on the “Comment” icon, complete the required fields, and enter or attach your comments.

Instructions: Comments sent by any other method, to any other address or individual, or received after the end of the comment period, may not be considered. All comments received are a part of the public record and will generally be posted for public viewing on https://www.regulations.gov without change. All personal identifying information (e.g., name, address), confidential business information, or otherwise sensitive information submitted voluntarily by the sender will be publicly accessible. You may submit anonymous comments by entering “N/A” in the required fields if you wish to remain anonymous.

Copies of Framework Adjustment 69, including the draft Environmental Assessment, the Regulatory Impact Review, and the Regulatory Flexibility Act Analysis prepared by the New England Fishery Management Council in support of this action, are available from Dr. Cate O'Keefe, Executive Director, New England Fishery Management Council, 50 Water Street, Mill 2, Newburyport, MA 01950. The supporting documents are also accessible via the internet at: https://www.nefmc.org/management-plans/northeast-multispecies or https://www.regulations.gov. Copies of each sector's approved operations plan and contracts from fishing years 2023-2024; the Sector Operations Plan, Contract, and Environmental Assessment Requirements guidance document for fishing years 2025-2026; and other supporting documents are available from the NMFS Greater Atlantic Regional Fisheries Office (GARFO), by contacting Heather Nelson at heather.nelson@noaa.gov. These documents are also accessible via the GARFO website.

Written comments regarding the burden-hour estimates or other aspects of the collection-of-information requirements contained in this proposed rule may be submitted to https://www.reginfo.gov/public/do/PRAMain. Find this particular information collection by selecting “Currently under 30-day Review—Open for Public Comments” or by using the search function.

FOR FURTHER INFORMATION CONTACT: Liz Sullivan, Fishery Policy Analyst, phone: 978-282-8493; email: Liz.Sullivan@noaa.gov.

SUPPLEMENTARY INFORMATION: The Northeast Multispecies Fishery Management Plan (FMP) regulates the commercial and recreational fishing of 13 species of groundfish through the use of various management programs designed to promote the long-term sustainability of the groundfish fishery. The FMP includes the annual specification of catch limits for each applicable component of the fishery. The directed groundfish fishery is divided into the recreational and commercial components, and the commercial fishery is further divided between sectors and the common pool (see “Sectors” below for more information). Annually, the commercial groundfish fishery has a value of approximately $40 million (ex-vessel revenue from the most recent complete fishing year). Recreational fisheries, including the recreational groundfish fishery, contribute substantial value to the regional and national economies.

In April of 2024, the New England Fishery Management Council (Council) began development of Amendment 25 to revise the management of Atlantic cod in the Northeast Multispecies FMP from the current management system of two stocks to four stocks. Contemporaneously, the Council decided to address implementing measures in the next framework adjustment. Framework 69 was developed in connection with Amendment 25. The specifications and measures in Framework 69 that were specific to Atlantic cod were dependent on Amendment 25 and would have been necessary to effectuate Amendment 25 changes, if Amendment 25 was approved and implemented by NMFS. Other measures contained within Framework 69 are independent of Amendment 25, and could therefore be implemented (if approved) regardless of the decision on Amendment 25.

The Council reviewed the proposed regulations for Framework 69 and deemed them consistent with, and necessary to implement, Framework 69 in a February 26, 2025, letter from Council Chairman Rick Bellavance to Regional Administrator Michael Pentony. On May 16, 2025, the Secretary of Commerce disapproved Amendment 25, after review of the Amendment consistent with the Magnuson-Stevens Fishery Conservation and Management Act (Magnuson-Stevens Act).

Under the provisions of the Magnuson-Stevens Act, the Greater Atlantic Regional Fisheries Office's Regional Administrator reviews proposed regulations for consistency with the FMP, plan amendments, the Magnuson-Stevens Act and other applicable law. The Regional Administrator is required to publish proposed regulations consistent with the Council's recommendations, with such technical changes as may be necessary for clarity and an explanation of those changes for public comment (section 304(b)(1)(A) of the Magnuson-Stevens Act). After public comment, the Regional Administrator may publish revisions to the proposed regulations along with an explanation of any differences between the proposed and final regulations (section 304(b)(3) of the Magnuson-Stevens Act; 50 CFR 648.90(a)).

Because the Secretary disapproved Amendment 25, NMFS is excluding from the Framework 69 proposed rule any measures that were dependent on the approval of Amendment 25 in accordance with the Magnuson-Stevens Act and the specification regulations. These exclusions are technical in nature, reflect the disapproval of Amendment 25, and remove measures that NMFS would have implemented under its responsibility to carry out the Magnuson-Stevens Act consistent with the FMP's provisions. The exclusions are necessary for clarity and will prevent confusion about the remaining measures that are necessary and appropriate for implementing the fishery's specifications. The excluded measures include status determination criteria and specifications for the four Atlantic cod stocks, common pool accountability measures (AM) for those four Atlantic cod stocks, and other management measures that were dependent on the revised stock structure.

Summary of Proposed Measures

This proposed action would implement the management measures in Framework Adjustment 69 to the Northeast Multispecies FMP that were not dependent on the approval of Amendment 25. The Regional Administrator is seeking comments on the proposed regulations and intends to promulgate the final regulations after careful consideration of any submitted comments. Through Framework 69, and based on Council recommendations, NMFS proposes to:

• Set the shared U.S./Canada quotas for Georges Bank (GB) yellowtail flounder for fishing years 2025 and 2026 and eastern GB haddock for fishing year 2025;

• Set specifications, including catch limits for seven groundfish stocks: Gulf of Maine (GOM) haddock, American plaice, witch flounder, pollock, and Atlantic halibut for fishing years 2025-2027; GB yellowtail flounder for fishing years 2025-2026; and GB haddock for fishing year 2025;

• Remove a requirement for sectors to submit State and Federal permit information to NMFS; and

• Modify the catch threshold for implementing the Atlantic sea scallop fishery's AMs for GB yellowtail flounder and northern windowpane flounder.

This action also proposes regulatory changes and other measures that are not part of Framework 69, but that may be considered and implemented under section 305(d) authority in the Magnuson-Stevens Act to make changes necessary to carry out the FMP. NMFS is proposing these changes in conjunction with the Framework 69 proposed measures for expediency purposes. Through this rulemaking, NMFS proposes to:

• Approve sector operations plans and allocate quota to sectors;

• Remove a requirement for weekly reporting by sectors;

• Set recreational management measures for GOM cod and GOM haddock;

• Update the common pool possession and trip limits for stocks to reflect potential fishing year 2025 limits; and

• Revise existing regulatory text to correct and increase readability and clarity of existing regulations.

On May 2, 2025, NMFS published an emergency rule that temporarily implemented specifications and management measures for 2025 for two stocks of cod, approved sector operations plans, and allocated sector quota for the 2025 fishing year (90 FR 18804). The basis of the 2025 quotas for GOM cod and GB cod were those recommended by the Council in Framework 69. In the emergency rule, NMFS acknowledged the significant administrative challenges and disruptions to NMFS, the sectors, and fishing participants that would be caused by transitioning from two stock units of cod to four stock units mid-fishing year. The specifications for GOM cod and GB cod (including the U.S./Canada quotas) remain in place as set by the emergency rule, and are not proposed to change in this rule. Some measures in the emergency rule, such as the U.S./Canada quotas and specifications for GB haddock, were already part of the Council's recommendations for Framework 69, and so are proposed here as well. If approved, those measures would replace those implemented by the emergency rule. While the emergency rule authorized sector operations plans and allocated quota for 180 days, this rule proposes to approve the two-year (2025-2026) sector operations plans and allocate quota for the full 2025 fishing year. Similarly, this proposes to update common pool possession limits for groundfish stocks for the full fishing year. If approved in the final rule, these measures would replace those set by the May 2 emergency rule.

Fishing Years 2025 Shared U.S./Canada Quotas

Management of Transboundary Georges Bank Stocks

Eastern GB cod, eastern GB haddock, and GB yellowtail flounder are shared stocks that are jointly managed with Canada under the United States/Canada Resource Sharing Understanding (Understanding). As part of the Understanding, the Transboundary Management Guidance Committee (TMGC) is a joint government-industry committee made up of representatives from the United States and Canada that acts to provide management guidance for U.S. and Canadian domestic management authorities. Each year, the TMGC recommends a shared quota for each stock based on the most recent stock information and the TMGC's harvest strategy. The TMGC's harvest strategy for setting catch levels is to maintain a low to neutral risk (less than 50 percent) of exceeding the fishing mortality limit for each stock. The harvest strategy also specifies that, when stock conditions are poor, fishing mortality should be further reduced to promote stock rebuilding. The shared quotas are allocated between the United States and Canada based on a formula that considers historical catch (10-percent weighting) and the current resource distribution (90-percent weighting). For historical information about the TMGC see: http://www.bio.gc.ca/info/intercol/tmgc-cogst/index-en.php.

Since the inception of the Understanding, the Transboundary Resource Assessment Committee (TRAC) has been tasked with collaboratively assessing the shared stocks and providing information necessary to support management of shared resources by the TMGC. In 2024, the TRAC was unable to produce joint assessments for any of the shared stocks. Instead, scientific staff from the Department of Fisheries and Oceans Canada (DFO) and NMFS's Northeast Fisheries Science Center worked to provide domestically produced assessment information for each stock to the TMGC for consideration. During an intersessional meeting on May 22, 2024, NMFS and DFO agreed to move towards a new scientific process that would be based on compilation of U.S. and Canadian domestic assessment information rather than development of single joint assessments for each stock. The new process is planned to be in place in 2025 for setting fishing year 2026 quotas.

For GB yellowtail flounder, the Council's Scientific and Statistical Committee (SSC) also recommends an acceptable biological catch (ABC) for the stock. The ABC is typically used to inform the U.S. TMGC's discussions with Canada for the annual shared quota. Although the stock is jointly managed with Canada, and the TMGC recommends annual shared quotas, the Council may not recommend catch limits that would exceed the SSC's recommendation. The SSC does not recommend ABCs for eastern GB cod and haddock, because they are management units of the total GB cod and haddock stocks. The SSC recommends overall ABCs for the total GB cod and haddock stocks. The shared U.S./Canada quota for eastern GB cod and haddock is included in these overall ABCs, and must be consistent with the SSC's recommendation for the total GB stocks. However, this year's TMGC meeting took place before the SSC had provided a recommendation for the total GB haddock ABC, and the SSC took the TMGC recommendation into consideration when making its recommendation.

For eastern GB haddock, because the U.S. domestic stock assessment provided advice for the full GB stock, an apportionment methodology was needed to provide advice for the eastern portion of the stock. This methodology was developed by the Northeast Fisheries Science Center in collaboration with Canadian scientists. The result of this methodology was that 100 percent of the full GB stock would be apportioned into the eastern area. This approach was presented to the SSC at its July 2024 meeting, and the SSC considered the approach to be appropriate for spatial apportionment of the biomass of these stocks and consistent with previous U.S./Canada resource sharing allocation calculations. The TMGC considered the results of the apportionment methodology when making its recommendations for shared quotas for 2025.

U.S./Canada Quotas

The TMGC met in October 2024 to recommend shared quotas for 2025 based on the available domestic assessment information from both countries, and made recommendations for eastern GB haddock and GB yellowtail flounder. The Council adopted these recommendations in Framework 69. The emergency rule set U.S./Canada quotas for eastern GB cod.

The proposed 2025 U.S. quotas for eastern GB haddock would represent a 50-percent decrease compared to 2024; the proposed GB yellowtail flounder would represent a 35-percent increase. For a more detailed discussion of the TMGC's 2025 catch advice, including a description of each country's quota share, see the TMGC's guidance document that is posted at: https://www.greateratlantic.fisheries.noaa.gov/.

The regulations implementing the U.S./Canada Resource Sharing Understanding at § 648.85(a) require deducting any overages of the U.S. quota for eastern GB cod, eastern GB haddock, or GB yellowtail flounder from the U.S. quota in the following fishing year. If catch information for the 2024 fishing year indicates that the U.S. fishery exceeded its quota for any of the shared stocks, NMFS will reduce the respective U.S. quotas for the 2025 fishing year in a future management action, as close to May 1, 2025, as practicable. If any fishery that is allocated a portion of the U.S. quota exceeds its allocation and causes an overage of the overall U.S. quota, the overage reduction would be applied only to that fishery's allocation in the following fishing year. This ensures that catch by one component of the overall fishery does not negatively affect another component of the overall fishery.

Catch Limits for Fishing Years 2025-2027

Summary of the Proposed Catch Limits

Tables 2 through 12 show the proposed catch limits for the 2025-2027 fishing years. Specifications are proposed and, if approved, adopted for three years (although in some cases the Council or NMFS may opt to adopt specifications for less than three years); however, any specifications for fishing years beyond 2025 are projections that will be considered and reaffirmed or adjusted in the annual framework for that fishing year. A brief summary of how these catch limits were developed is provided below. More details on the proposed catch limits for each groundfish stock can be found in appendix II (Calculation of Northeast Multispecies Annual Catch Limits, FY 2025-FY 2027) to the Framework 69 Environmental Assessment (see ADDRESSES for information on how to get this document).

Through Framework 69, the Council recommends catch limits, including overfishing limits (OFL), for GOM haddock, American plaice, witch flounder, pollock, and Atlantic halibut for the 2025-2027 fishing years; GB yellowtail founder for the 2025-2026 fishing years; and GB haddock for the 2025 fishing year, based on stock assessments completed in 2024. Catch limits for other groundfish stocks were previously set by Framework 65 (88 FR 56527; August 18, 2023) and Framework 66 (89 FR 35755; May 2, 2024). Table 2 provides an overview of which catch limits, if any, would change, as proposed in Framework 69, the framework that set other stocks' catch limits, as well as when the stock was most recently assessed. Table 3 provides the percent change in the 2025 catch limit compared to the 2024 fishing year. Because the GOM cod and GB cod quotas were set by the May 2, 2025 emergency action, they are not included in tables 2 and 3.

All specifications projected for fishing year 2025 in previous frameworks were considered for reaffirmation or adjustment, as warranted by the best scientific information available in the adopting framework, and any updates in this action. The previously projected and adopted specifications are proposed for reaffirmation, consistent with the considerations and determinations in the adopting frameworks, Framework 66 and Framework 65, because none of the underlying scientific information has changed in any significant way.

BILLING CODE 3510-22-P

BILLING CODE 3510-22-C

Overfishing Limits and Acceptable Biological Catches

The OFL is calculated to set the maximum amount of fish that can be caught in a year without constituting overfishing. The ABC is typically set lower than the OFL to account for scientific uncertainty. For GB haddock and GB yellowtail flounder, the total ABC is reduced by the amount of the Canadian quota (see table 1 for the Canadian and U.S. shares of these stocks). Although the TMGC recommendations were only for fishing year 2025, the portion of the shared quota that would be allocated to Canada in fishing year 2025 was used to project the U.S. portions of the ABCs for GB yellowtail flounder for 2026. This avoids artificially inflating the U.S. ABC up to the total ABC for the 2026 fishing year. The TMGC will make new recommendations for 2026, which would replace the GB yellowtail flounder quotas set in this action. While this is generally done for GB haddock as well, this year the Council opted to not set a quota for this stock beyond 2025. During development of Framework 69, members of the fishing industry raised concerns about the proportion of GB haddock that was estimated to occur in the eastern U.S./Canada area, relative to the full stock. Based on SSC recommendations, the Council proposed a fishing year 2025 OFL of 8,034 mt and a total ABC of 7,410, which resulted in a U.S. ABC of 1,556 mt after the Canadian share was addressed. NMFS is evaluating the Council's proposal and fishing industry's concerns, and will consider public comments on this proposed rule, to determine whether the U.S. ABC should be increased above 1,556 mt. NMFS will provide the final GB haddock U.S. ABC in the final rule for this action.

Although GB winter flounder, white hake, and Atlantic halibut are not jointly managed with Canada, there is some Canadian catch of these stocks. Because the total ABC must account for all sources of fishing mortality, expected Canadian catch of GB winter flounder (38 mt), white hake (57 mt), and Atlantic halibut (71 mt) is deducted from the total ABC. The U.S. ABC is the amount available to the U.S. fishery after accounting for Canadian catch (see table 3). For stocks without Canadian catch, the U.S. ABC is equal to the total ABC.

The OFLs are currently unknown for GB yellowtail flounder, witch flounder, northern windowpane flounder, and Atlantic halibut. For 2025, the SSC recommended maintaining the unknown OFL for GB yellowtail flounder and witch flounder. Empirical stock assessments are used for these five stocks, and these assessments no longer provide quantitative estimates of the status determination criteria, nor have appropriate proxies for status determination criteria been developed. For each of these stocks, the Council has relied on the SSC to provide advice on the likelihood of preventing overfishing and promoting rebuilding under the proposed ABCs. Based on the SSC's recommendation, NMFS has preliminarily determined that these ABCs are based on the best scientific information available and, therefore, provide a sufficient limit for preventing overfishing and are consistent with the National Standards. This action does not propose any changes to the status determination criteria for these stocks.

Annual Catch Limits

Development of Annual Catch Limits (ACL)

The U.S. ABC for each stock is divided among the various fishery components to account for all sources of fishing mortality. For stocks with a recreational allocation, the U.S. ABC is first divided between the commercial and recreational fisheries, before being further divided into sub-components and sub-ACLs. An estimate of catch expected from State waters and the other sub-component (e.g., Federal commercial non-groundfish fisheries and some recreational groundfish fisheries, if there is not a recreational allocation) is deducted from the U.S. ABC. The remaining portion of the U.S. ABC is distributed to the fishery components that receive an allocation for the stock. Components of the fishery that receive an allocation have a sub-ACL set by reducing their portion of the ABC (the sub-ABC) to account for management uncertainty and are subject to AMs if they exceed their respective catch limit during the fishing year. This process is described fully in appendix II of the Framework 69 EA (see ADDRESSES).

Sector and Common Pool Allocations

For stocks allocated to sectors, the commercial groundfish sub-ACL is further divided into the non-sector (common pool) sub-ACL and the sector sub-ACL based on the total vessel enrollment in sectors and the cumulative potential sector contributions (PSC) associated with those sectors. This action does not change an individual's qualifying fishing history or the manner in which an individual vessel's PSC contributes to a sector's cumulative PSC. The sector and common pool sub-ACLs proposed in this action are based on fishing year 2025 PSCs and fishing year 2025 sector rosters. All permits enrolled in a sector, and the vessels associated with those permits, had until April 30, 2025, to withdraw from a sector and fish in the common pool for the 2025 fishing year. In addition to the enrollment delay, all permits that changed ownership after the roster deadline were able to join a sector (or change sector) through April 30, 2025.

Management Uncertainty Buffer for Sectors

Amendment 23 (87 FR 75852; December 9, 2022) implemented a measure to set the management uncertainty buffer for the sector sub-ACL for each allocated groundfish stock to zero. In years that the at-sea monitoring (ASM) coverage target is set at 100 percent, the management uncertainty buffer will default to zero for the sector sub-ACL for allocated stocks, unless the Council's consideration of the 100-percent coverage target warrants specifying a different management uncertainty buffer in order to prevent exceeding the sub-ACL. The process by which the Council evaluates and sets management uncertainty buffers was unchanged by Amendment 23, and the Council may adjust management uncertainty buffers in future actions.

As established in Amendment 23, the ASM coverage target is dependent on the level of funding for ASM and observers, and NMFS evaluates overall annual appropriations from Congress to finalize the ASM coverage target. NMFS also provides the target as soon as it can each year so that sectors can establish their rosters and meet annual deadlines. On March 21, 2025, the Regional Administrator announced that the preliminary fishing year 2025 ASM coverage target will be 100 percent. NMFS is currently evaluating whether the preliminary coverage target can be met given the level of 2025 appropriations funding for reimbursing sectors for the cost of monitoring, and will announce the final ASM coverage target in the final rule.

The removal of the management uncertainty buffer for the sectors alone is not likely to cause the ABC or OFL to be exceeded. The fishery would remain accountable for remaining within the sub-ACLs allocated to it. Further, the revised management uncertainty buffers apply only to sectors and not to the common pool component of the fishery or other sub-ACLs or sub-components for any stocks. Therefore, uncertainty buffer would continue to exist for the stock's ACL, but the sector-specific buffer would be removed.

Framework 66 approved an additional measure that, for fishing year 2025, the management uncertainty buffer for white hake would default to zero for the sector sub-ACL if the ASM target is 90 percent or higher. If the final ASM coverage target is set below 90 percent, all stocks would have sectors' sub-ABCs reduced to account for management uncertainty (see table 4). If the final ASM coverage target is set at 100 percent for fishing year 2025, sectors' sub-ABCs would not be reduced for any allocated stocks (see table 5). Tables 6 and 7 display the ACLs and sub-ACLs for all stocks with the management uncertainty buffer left in place for fishing years 2026 and 2027, respectively, but this would be updated in a future action based on the coverage target for that fishing year. Although this rule does not propose specifications for GB cod and GOM cod, those two stocks are included in tables 4 and 5 for completeness, and to show adjustments based on changes in sector rosters since the publication of the emergency rule.

Common Pool Total Allowable Catches

The common pool sub-ACL for each allocated stock (except for SNE/MA winter flounder) is further divided into trimester total allowable catches (TAC). The Trimester TAC AM for the common pool fishery requires that, once NMFS projects that 90 percent of the trimester TAC is caught for a stock, the trimester TAC area for that stock will be closed for the remainder of the trimester. These closures apply to all common pool vessels fishing on a groundfish trip with gear capable of catching the pertinent stock. Any uncaught portion of the TAC in Trimester 1 or Trimester 2 is carried forward to the next trimester. Overages of the Trimester 1 or Trimester 2 TAC are deducted from the Trimester 3 TAC. Any overages of the total common pool sub-ACL are deducted from the following fishing year's common pool sub-ACL for that stock. Uncaught portions of any trimester TAC may not be carried over into the following fishing year. Table 8 summarizes the common pool trimester TACs proposed in this action.

Incidental catch TACs are also specified for certain stocks of concern (i.e., stocks that are overfished or subject to overfishing) for common pool vessels fishing in the special management programs (i.e., special access programs (SAP) and the Regular B Days-at-Sea (DAS) Program), in order to limit the catch of these stocks under each program. Tables 9 through 11 summarize the proposed incidental catch TACs for each stock and the distribution of these TACs to each special management program.

Although this rule does not propose specifications for GB cod and GOM cod, the common pool trimester TACs and incidental catch TACs of those two stocks are included in tables 8 through 11 for completeness, and to show adjustments based on changes in sector rosters since the publication of the emergency rule.

BILLING CODE 3510-22-P

BILLING CODE 3510-22-C

Sectors

The Northeast multispecies sector program is defined and regulated in 50 CFR part 648. The Northeast Multispecies FMP defines a sector as “a group of persons holding limited access Northeast multispecies permits who have voluntarily entered into a contract and agree to certain fishing restrictions for a specified period of time, and that have been granted a portion of the [total allowable catch] TACs [sic] in order to achieve objectives consistent with applicable goals and objectives of the FMP” (§ 648.2 “Sector”). Sectors are self-selecting, meaning participation is voluntary, and each sector can choose its members.

The Northeast multispecies sector management system includes an annual allocation of available catch for a portion of the Northeast multispecies stocks to each approved sector. These annual sector allocations are known as annual catch entitlements (ACE) and are portions of a stock's ACL available to commercial Northeast multispecies sector vessels. A sector's ACE is based on the collective fishing history of the permits held by the sector's members. Sectors may receive allocations of large-mesh Northeast multispecies stocks with the exception of Atlantic halibut, windowpane flounder, Atlantic wolffish, and ocean pout, which are non-allocated species managed under separate effort controls. A sector determines how to harvest its ACE. In addition to the sectors, there are several State-operated permit banks that each receive an allocation based on the fishing history of permits they hold. Allocations in State-operated permit banks may be leased to fishermen enrolled in sectors. State-operated permit banks are no longer approved through the sector approval process, but current State-operated permit banks contribute to the total allocation under the sector system.

Sector Operations Plans

Sector operations plans contain the rules under which each sector will fish and also provide the legal contract that binds each member to the sector for the length of the sector's operations plan. Each sector's operations plan, and each sector's members, must comply with the regulations governing sectors, found at § 648.87. Sectors are also responsible for developing and implementing a monitoring program that meets the requirements at § 648.11(l). For fishing year 2025, sector vessels may choose to use ASM or the audit model electronic monitoring (EM) program to meet monitoring requirements, provided that the sector has a corresponding monitoring program approved as part of its operations plan.

NMFS approved 15 sectors to operate in fishing years 2023 and 2024, (88 FR 26502; 89 FR 23941). Copies of the approved operations plans and contracts from fishing years 2023-2024 are available at: https://www.fisheries.noaa.gov/new-england-mid-atlantic/commercial-fishing/fishing-year-2024-sectors and from NMFS (see ADDRESSES). Prior to the 2025 fishing year, NMFS received sector operations plan submissions from these same sectors. The initial fishing years 2025-2026 operations plans submitted by sectors do not request substantial changes from fishing years 2023-2024 final operations plans. All sectors that harvest fish included a NMFS-approved ASM or EM program as part of their operations plans. NMFS did not receive any new operations plans for approval for fishing year 2025. As a result, this rule proposes to approve all 15 sector operations plans, and does not include proposals to approve any additional sectors to operate in fishing year 2025.

Sector Exemptions

Because sectors elect to receive an allocation under a quota-based system, the FMP grants sector vessels several universal exemptions from the FMP's effort controls. These universal exemptions are codified at § 648.87(c)(2)(ii). Sectors may request additional exemptions annually as part of their sector operations plans to increase flexibility and fishing opportunities. The FMP prohibits sectors from requesting exemptions from permitting restrictions, gear restrictions designed to minimize habitat impacts, and most reporting requirements.

For fishing year 2025, sectors did not request any novel exemptions. NMFS previously granted 18 exemptions for fishing years 2023 and 2024 (88 FR 26502; May 1, 2023). The exemptions are described below. This rule proposes to grant these previously approved exemptions to all sectors which requested them in their operations plans. Supporting rationale for the exemptions can be found in the applicable final rules, identified in the description for each exemption. This rule provides full exemption descriptions to reflect regulatory citation corrections and to clearly describe the exemptions.

(1) Exemption from the 120-day block out of the fishery required for Day gillnet vessels (62 FR 15381; April 1, 1997). Vessels operating in a sector that requests this exemption in its approved operations plan are exempt from the regulations at § 648.82(j)(1)(ii) requiring that Day gillnet vessels declare and take 120 days out of the non-exempt gillnet fishery each fishing year.

(2) Exemption from the 20-day spawning block out of the fishery required for all vessels (75 FR 18113; April 9, 2010). Vessels operating in a sector that requests this exemption in its approved operations plan are exempt from regulations at § 648.82(g), which specify the following: Vessels issued a valid Small Vessel category permit, or vessels issued an open access Handgear B permit, may not fish for, possess, or land regulated species or ocean pout from March 1 through March 20 of each year; a sector must declare that the vessel will not fish with gear capable of catching Northeast multispecies for a 20-day period between March 1 and May 31 of each calendar year; and a vessel fishing under a Day gillnet category designation is prohibited from fishing with gillnet gear capable of catching Northeast multispecies during its declared 20-day spawning block.

(3) Exemption from the limits on the number of gillnets for Day gillnet vessels outside of the GOM. Vessels operating in a sector that requests this exemption in its approved operations plan are partially exempt from the gear restrictions described at §§ 648.80(a)(4)(iv)(B)(1), 648.80(b)(2)(iv)(B)(1), and 648.80(c)(2)(v)(B)(1), and are authorized to fish with up to 150 total (roundfish and flatfish combined) nets in the GB, SNE, and MA Regulated Mesh Areas (RMA). Vessels must tag both roundfish and flatfish nets with one tag per net, and are exempt from the requirement for two gillnet tags per roundfish net specified in §§ 648.80(a)(4)(iv)(B)(3), 648.80(b)(2)(iv)(B)(3), and 648.80(c)(2)(v)(B)(3). This exemption does not apply in the GOM RMA.

(4) Exemption from the prohibition on a vessel hauling another vessel's gillnet gear (75 FR 18113, April 9, 2010). Regulations at §§ 648.14(k)(6)(ii)(A) and 648.84(a) specify the manner in which gillnet gear must be tagged and marked. This exemption allows a sector vessel to fish gillnets marked and tagged by another vessel from the same sector, provided that the gear is tagged with this vessel's gillnet tags consistent with the tag per net requirements and is marked consistent with § 648.84(a). Vessels operating in a sector that requests this exemption in its approved operations plan are exempt from the portion of the regulation at § 648.14(k)(6)(ii)(A)(3) that prohibits vessel owners or operators from tagging a gillnet or using a gillnet tag that has been issued to another vessel. This does not exempt the vessel from the regulation prohibiting the use of a gillnet tag that has been reported lost or missing. Sector vessels opting to implement this provision will be required to place NMFS-issued gillnet tags of each member on the gear being utilized under this technique. All vessels participating in community fixed gear will be held jointly liable for any violations associated with that gear.

(5) Exemption from limits on the number of gillnets that may be hauled in the GB RMA when fishing under a Northeast multispecies/monkfish DAS (76 FR 23076, April 25, 2011). Regulations at § 648.80(a)(4)(iv) prohibit Day gillnet vessels fishing on a groundfish DAS from possessing, deploying, fishing, or hauling more than 50 nets in the GB RMA. For sectors that request this exemption in its approved operations plan, gillnet vessels dually permitted under both the Northeast Multispecies and Monkfish FMPs may deploy more than 50 nets (up to 160 for category A and B vessels, and up to 150 nets for category C, D, F, G, and H vessels) under existing Monkfish FMP limits, found at § 648.92(b)(8).

(6) Exemption from the limits on the number of hooks that may be fished (76 FR 23076, April 25, 2011). Vessels operating in a sector that requests this exemption in its approved operations plan are exempt from regulations at §§ 648.80(a), (b), and (c) that restrict the number of hooks that may be fished. Specifically, this vessel is exempt only from hook restrictions that prohibit vessels from fishing or possessing more than 2,000 rigged hooks in the GOM RMA, more than 3,600 rigged hooks in the GB RMA, more than 2,000 rigged hooks in the SNE RMA, or more than 4,500 rigged hooks in the MA RMA. This vessel may use up to 4,500 hooks within an inshore area and an unlimited number of hooks in the rest of the sector area.

(7) Exemption from the DAS Leasing Program length and horsepower restrictions (76 FR 23076, April 25, 2011). All sector vessels are exempt from the requirement to use Northeast multispecies DAS to harvest groundfish (§ 648.87(c)(2)(ii)(C)). However, sector vessels have been allocated and must still use Northeast multispecies DAS for specific circumstances, and may lease DAS to other sector vessels. Vessels operating in a sector that requests this exemption in its approved operations plan are exempt from the DAS Leasing Program length and horsepower baseline restrictions on DAS leases among vessels within the same or different sectors, as described at § 648.82(k)(4)(ix).

(8) Exemption from the prohibition on discarding (76 FR 23076, April 25, 2011). Regulations at § 648.11(l)(9) prohibit a sector vessel from discarding any legal-sized regulated species or ocean pout allocated to sectors pursuant to § 648.87(b)(1)(i). Vessels operating in a sector that requests this exemption in its approved operations plan are exempt from this regulatory requirement only when there are unmarketable fish, defined as any legal-sized fish the vessel owner/captain elects not to retain because of poor quality as a result of damage prior to, or from, harvest. All legal-sized unmarketable allocated fish are accounted for in the overall sector-specific discard rates in the same way discards of undersized fish are accounted for through ASM and/or EM coverage. All vessels in a sector opting for this exemption will be required to discard legal-sized unmarketable fish at sea on all trips (i.e., not just on select trips) to prevent the potential to skew observed discards.

(9) Exemption from the trawl gear requirements in the Eastern U.S./Canada Management Area (76 FR 23076, April 25, 2011). Vessels operating in a sector that requests this exemption in its approved operations plan are exempt from regulations at § 648.85(a)(3)(iii) which require Northeast multispecies vessels fishing with trawl gear in the Eastern U.S./Canada Area to fish with a Ruhle trawl, a haddock separator trawl, or a flounder trawl net.

(10) Exemption from the prohibition on a vessel hauling another vessel's hook gear (77 FR 26129, May 2, 2012). Vessels operating in a sector that requests this exemption in its approved operations plan may haul the hook gear of another vessel operating in their sector. Each member of the sector intending to haul the same gear will be required to mark the gear must be marked consistent with the requirements at §§ 648.14(k)(6)(ii)(B) and 648.84(a). All vessels utilizing community hook gear under this exemption will be jointly liable for any violations associated with their hook gear.

(11) Exemption from the requirement to declare an intent to fish in the Eastern U.S./Canada SAP and the Closed Area (CA) II Yellowtail Flounder/Haddock SAP prior to leaving the dock (77 FR 26129, May 2, 2012). Vessels operating in a sector that requests this exemption in its approved operations plan are exempt from the requirement to declare that they will be fishing in either the Eastern U.S./Canada Haddock SAP or the CA II Yellowtail Flounder/Haddock SAP prior to leaving the dock, as specified in § 648.85(a)(3)(ii). Because sector catch is limited by ACE, DAS credit for trips in these SAPs is no longer necessary, and vessels operating in a sector that request this exemption in its approved operations plan may declare their intent to fish in these SAPs while at sea.

(12) Exemption from seasonal restrictions for the Eastern U.S./Canada Haddock SAP (78 FR 25591, May 2, 2013). Regulations at § 648.85(b)(7)(iv) specify that an eligible vessel may fish in the Eastern U.S./Canada Haddock SAP only from August 1 through December 31. Vessels operating in a sector that requests this exemption in its approved operations plan are partially exempt from regulations at § 648.85(b)(7)(iv), and may fish in the Eastern U.S./Canada Haddock SAP from May 1 through December 31.

(13) Exemption from seasonal restrictions for the CA II Yellowtail Flounder/Haddock SAP (78 FR 25591, May 2, 2013). Regulations at § 648.85(b)(3)(iii) specify that an eligible vessel may fish in the CA II Yellowtail Flounder/Haddock SAP from July 1 through December 31 to target yellowtail flounder and only from August 1 through January 31 to target haddock. Vessels operating in a sector that requests this exemption in its approved operations plan are exempt from the open season and specific date restrictions allowing fishing only when the CA II Yellowtail Flounder/Haddock SAP Area is open to target yellowtail or haddock. The vessel may fish consistent with this exemption in the Area to target yellowtail from July 1 through December 31, and to target haddock from May 1 through January 31.

(14) Sampling exemption (78 FR 25591, May 2, 2013). Sectors may propose independent sampling programs in their operations plans, in which data would be collected from fish that otherwise must be immediately discarded. Sectors granted this exemption have submitted research plans with their operations plans, and have provided information for all necessary information to support an independent sampling program. Vessels operating in a sector that requests this exemption in its approved operations plan are authorized to conduct scientific research while fishing as outlined in the operations plan, if accompanied by a research technician. As part of their research, this vessel may temporarily retain fish that are not compliant with applicable fishing regulations to collect catch data such as length and weight. Sampled fish must be returned to sea as soon as practicable after sampling. This provision would be included in sector vessels' Letter of Authorization, which will aid enforcement officials in determining approved activities, with the same restrictions as when a temporary possession permit is obtained through the application process.

(15) Exemption from the prohibition on combining small-mesh exempted fishery and sector trips in SNE (82 FR 39363, August 18, 2017). Vessels operating in a sector that requests this exemption in its approved operations plan are exempt from the minimum trawl mesh size requirements described at § 648.80(b)(2)(i) within the Sectors Small Mesh Exemption Area. The Sectors Small Mesh Exemption Area includes all of statistical areas 537, 539, and 613. Under this exemption, vessels may possess and use small-mesh and large-mesh trawl gear on a single trip within the SNE RMA with certain gear modifications: drop chain sweep with a minimum of 12 inches (30.48 cm) in length; a large-mesh belly panel with a minimum of 32-inch (81.28-cm) mesh size; or an excluder grate secured forward of the codend with an outlet hole forward of the grate with bar spacing of no more than 1.97 inches (5.00 cm) wide. Trips declaring this exemption must stow their small-mesh gear according to the definition of “not available for immediate use” at § 648.2 and use their large-mesh gear first. Upon completing the large-mesh portion of the trip, and before unstowing their modified small mesh gear, the vessel must submit a Multispecies Catch Report via vessel monitoring system (VMS) with a good faith estimate of all catch on board at that time and must check the box at the bottom of the report declaring the use of a smaller mesh codend. Once the vessel sends the Multispecies Catch Report, it may not fish outside the Sector Small Mesh Fishery Exemption Areas or redeploy its large-mesh gear.

(16) Exemption from the extra-large mesh requirement to target dogfish on trips excluded from ASM in SNE and Inshore GB Broad Stock Areas (BSA) (81 FR 26412, May 2, 2016). Pursuant to at § 648.11(l)(5)(ii), sector vessels that notify NMFS of their intent to fish using gillnets with a mesh size of 10-inch (25.4-cm) or greater in either the Inshore GB BSA, as defined at § 648.10(k)(3)(ii), and/or the SNE BSA, as defined at § 648.10(k)(3)(iv), are not subject to the coverage level for ASM specified in paragraph § 648.11(l)(5)(i). While on a non-ASM sector groundfish trip, vessels operating in a sector that requests this exemption in its approved operations plan are approved to target dogfish using 6.5-inch mesh gillnet gear within the footprint and season of either the Nantucket Shoals Dogfish Exemption Area (June 1 through October 15), the Eastern Area of the Cape Cod Spiny Dogfish Exemption Area (June 1 through December 31), or the Southern New England Dogfish Gillnet Exemption Area (May 1 through October 31). This exemption does not apply to EM vessels. For vessels enrolled in an EM program, the EM system must be operational on 100 percent of sector EM trips and the vessel operator and crew must abide by the catch handling requirements described in the vessel's vessel monitoring plan.

(17) Exemption from the requirement that Handgear A vessels carry a VMS unit when fishing in a single BSA (82 FR 18706, April 21, 2017). Vessels operating in a sector that requests this exemption in its approved operations plan are exempt from the regulations at § 648.14(k)(9)(i) that require Handgear A permit vessels operating south of the GOM RMA (defined at § 648.80(a)(1)), to declare the vessel operator's intent to fish in this area via VMS. This exemption does not waive requirements to carry or report using a VMS unit when fishing in multiple BSA's, in the U.S/Canada Management Areas, or under any other requirements associated with using other sector exemptions or participating in SAPs.

(18) Exemption from the limits on the number of gillnets for Day gillnet vessels in the GOM (83 FR 18965, May 1, 2018). Vessels operating in a sector that request this exemption in its approved operations plan are partially exempt from the regulations at § 648.80(a)(3)(iv)(B)(2). The exemption allows sector vessels to fish up to 150 gillnets, provided at least 50 nets are 10-inch (25.4-cm) or larger mesh and those nets are fished east of 70 degrees West longitude. The 100-flatfish tied down net limit still applies in the portion of the GOM RMA west of 70 degrees West longitude. This exemption does not change the 50-roundfish or “stand up” net limit in the GOM RMA. Day gillnet vessels using this exemption are required to tag each roundfish net with two gillnet tags and each flatfish or “tied down” net with a single gillnet tag (§ 648.80(a)(3)(iv)(B)(4)). This exemption does not change the 160 net limit of stowed and deployed nets combined.

NMFS may revoke exemptions in-season if: (1) it determines that the exemption jeopardizes management measures, FMP objectives, or rebuilding efforts; (2) the exemption results in unforeseen negative impacts on other managed fish stocks, habitat, or protected resources; (3) the exemption causes enforcement concerns; (4) catch from trips using the exemption cannot be adequately monitored; or (5) a sector is not meeting certain administrative or operational requirements. If it becomes necessary to revoke an exemption, NMFS will do so through a process consistent with the existing regulations or in a separate rulemaking action, as appropriate.

Sector Reporting Requirements

Framework 69 proposes to remove the regulation at § 648.87(b)(2) requiring sectors to include a list of all Federal and State permits held by participating vessels as part of a complete operations plan and sector contract package, as originally established in Amendment 16. Other requirements would still apply. The intent of removing this regulation is to reduce the administrative burden on sectors, without negatively affecting the availability of information for analyzing the impacts of sectors.

In addition, NMFS proposes to remove the regulation at § 648.87(b)(1)(v)(B) requiring sectors to submit a weekly catch report to NMFS. In the weekly catch report, sectors provide the remaining balance of ACE allocated to their sector. The weekly report frequency must increase (e.g., to daily) when the balance of remaining ACE is low, as specified in the sector operations plan and approved by NMFS. Amendment 23 established that the Greater Atlantic Regional Administrator may revise sector reporting requirements to streamline reporting for the industry. With the implementation of electronic reporting, NMFS receives catch and landing data simultaneously to sector managers, and weekly and daily reports from managers are no longer needed to track the most up-to-date ACE information. The intent of removing these reporting requirements is to reduce the administrative burden on sectors, without negatively affecting the availability of information for NMFS or sector managers to monitor ACE. Sector managers submit reports and view catch and ACE information for their sectors in a secure web-portal operated by NMFS. NMFS is upgrading this system to eliminate the need for the weekly or more frequent reports.

Sector Allocations for Fishing Year 2025

The proposed sector allocations in this rule are based on the 2025 catch limits for stocks recommended by the Council in Framework 69, with the exception of the four Atlantic cod stocks, and the catch limits for GB cod and GOM cod set by the emergency rule. NMFS calculates the sector's allocation for each stock by summing its members' PSCs for a stock and then multiplying that total percentage by the available commercial sub-ACL for that stock. This rule includes the allocations, to the nearest pound, to each sector based on their 2025 rosters. NMFS uses final allocations, along with later adjustments including ACE transfers, reductions for overages, or increases for carryover, monitor sector catch.

Table 12 shows the projected total PSCs for each sector, by stock, for fishing year 2025 based on 2025 sector rosters. Tables 13 and 14 show the proposed allocations that each sector would be allocated, in pounds (lb) and mt, respectively, for fishing year 2025. The proposed common pool sub-ACLs are also included in table 13 and 14 for comparison. Although this rule does not propose specifications for GB cod and GOM cod, the sector allocations for those two stocks are included in tables 13 and 14 for completeness and to show adjustments based on changes in sector rosters since the publication of the emergency rule.

Instead of assigning separate PSCs for the eastern GB cod or eastern GB haddock, a PSC is assigned to each permit for the GB cod stock and GB haddock stock. Each sector's GB cod and GB haddock allocations are then divided into an eastern ACE and a western ACE, based on each sector's percentage of the GB cod and GB haddock ACLs. For example, if a sector is allocated 4 percent of the GB cod ACL, the sector is allocated 4 percent of the commercial eastern GB cod TAC as its eastern GB cod. The eastern GB haddock allocations are determined in the same way. These amounts are then subtracted from the sector's overall GB cod and haddock allocations to determine its western GB cod and haddock ACEs. A sector may harvest its eastern GB cod and haddock ACEs only in the Eastern U.S./Canada Area. A sector may also “convert,” or transfer, its eastern GB cod or haddock allocation into western GB allocation and harvest that converted ACE outside the eastern GB geographic area.

Each sector is required to ensure that it does not exceed its ACE during the fishing year. Sector vessels are required to retain all legal-sized allocated Northeast multispecies stocks, unless a sector is granted an exemption allowing its member vessels to discard legal-sized unmarketable fish at sea (see above). Catch (defined as landings and discards) of all allocated Northeast multispecies stocks by a sector's vessels counts against the sector's allocation. Groundfish catch from a sector trip targeting non-groundfish species will be deducted from the sector's ACE, because these are groundfish trips using gear capable of catching groundfish. Catch from a non-sector trip in an exempted fishery does not count against a sector's allocation and is assigned to a separate ACL sub-component to account for any groundfish bycatch that occurs in non-groundfish fisheries.

NMFS expects final 2024 catch information for sectors to be ready in late-summer 2025. To reduce or eliminate any fishing year 2024 overages, NMFS will allow sectors to trade fishing year 2024 ACE for 2 weeks after completion of the year-end catch accounting. Each year, NMFS notifies the Council and sector managers of this deadline in writing and announces its final ACE determination at: https://www.fisheries.noaa.gov/species/northeast-multispecies. If necessary, NMFS will reduce any sector's fishing year 2025 allocation to account for a remaining overage in fishing year 2024.

BILLING CODE 3510-22-P

BILLING CODE 3510-22-C

Common Pool Management Measures

Common Pool Trip Limits

For the Handgear B permit, Framework 69 proposes a change to how trip limits could be set using Regional Administrator authority. Current regulations at § 648.88(a)(1) specify a baseline trip limit for cod of 75 lb (34 kilograms (kg)) per trip and a formulaic method for reducing that trip limit in a proportional manner to the corresponding DAS limit for either the GOM or GB stocks of cod. This action would eliminate the formulaic proportional method for adjusting trip limits for the Handgear B permit and would instead provide for setting Handgear B trip limits in a manner consistent with trip limits for other permits, up to a maximum of 75 lb (34 kg) per trip. This was developed as part of the Council's action to change from two to four cod stocks. However, the purpose and function of this change applies equally to either two or four stocks; therefore, it is proposed in this action.

For Small Vessel Category permits, this action would clarify that these vessels are subject to limits for stocks below the 300-lb (136-kg) combined trip limit for cod, haddock, and yellowtail flounder. For example, if the A DAS limit for the GOM cod stock is 50 lb (22.7 kg) per DAS, then Small Vessel Category permitted vessels would have a limit of 50 lb (22.7 kg) per trip, within the overall combined limit of 300 lb (136.1 kg) for cod, haddock and yellowtail flounder.

This action proposes changes under section 305(d) authority in the Magnuson-Stevens Act to the regulations in § 648.86 that implement possession limits for the Northeast multispecies fishery. The current structure of § 648.86 describes Northeast multispecies possession limits in species-by-species manner, but is at times unfocused and inefficiently laid out. In order to improve the readability and make the possession limit regulations easier for the public and fishing industry to understand, this action proposes a restructuring of § 648.86 that organizes trip limits by permit category, and in a tabular format. These proposed changes also consolidate possession and trip limits found in other sections (for example, Handgear A category limits currently at § 648.82(b)(6)) into § 648.86 in order to place these regulations more predictably.

In conjunction with these changes under section 305(d) authority of the Magnuson-Stevens Act, this action would implement trip limits for stocks pursuant to Regional Administrator authority to implement or adjust trip limits that enable common pool catch of each stock to approach, but not exceed, the pertinent sub-ACL allocated to the common pool for the fishing year. Currently, the regulation implementing this authority is at § 648.86(o), and this action proposes to move that regulation to § 648.85(a)(5). Table 15 below summarizes proposed fishing year 2025 common pool trip limits for all stocks.

BILLING CODE 3510-22-P

BILLING CODE 3510-22-C

Differential DAS Counting for Common Pool Vessels

This action proposes changes under section 305(d) authority in the Magnuson-Stevens Act to the regulations in § 648.82 that describe the differential DAS counting AM for the common pool. The regulations at § 648.82(n)(1) describe a differential DAS counting AM that, in fishing years 2010 and 2011, specified a process and conditions for the Regional Administrator to exercise Magnuson-Stevens Act section 305(d) authority to adjust the rates at which DAS would be charged to common pool vessels, if NMFS projected that any of the sub-ACLs specified for common pool vessels would be exceeded or underharvested. Because this AM applied only to fishing years 2010 and 2011, it is proposed for removal. References to differential DAS counting would also be removed from other sections in Subpart F.

Regulations at § 648.82(o) provide the Regional Administrator with the discretion to implement differential DAS counting beyond fishing year 2011. This authority has gone unused since fishing year 2011. Instead, the common pool is managed by adjusting possession limits and the trimester TAC AMs. Framework 69 proposes to remove the regulations providing this discretion to the Regional Administrator.

Recreational Management Measures

Under the provisions at § 648.89(f)(3), Northeast multispecies fishery regulations include proactive recreational AMs to ensure that the recreational sub-ACL for recreational stocks with a sub-ACL is achieved, but not exceeded. For the proactive AMs, the Regional Administrator, in consultation with the Council, develops and implements recreational management measures for the upcoming fishing year, including minimum fish size, bag limit, season, and/or other measures. The FMP also includes reactive AMs to correct the cause or mitigate the effects of an overage, if one occurs.

This rule proposes adjusting GOM haddock recreational measures based on the proposed Framework 69 sub-ACL for fishing year 2025 and the Council's recommended management measures (see table 16). NMFS proposes to reduce the minimum size from 18 inches (45.7 cm) to 17 inches (43.2 cm), maintain a possession limit of 15 fish per angler, and maintain the open seasons of May 1-February 28 or 29, and April 1-30.

The Council recommended recreational measures for Western Gulf of Maine (WGOM) cod—one of the new stocks considered under Amendment 25. However, with the disapproval of Amendment 25, NMFS cannot implement these measures as recommended, but may still meet the conservation and management goals of the proposed measures as applied to the existing GOM cod stock. Therefore, for the existing GOM cod stock, NMFS proposes to add the open season of May 1-May 31 to the current open season of September 1-October 31. Other current recreational measures for GOM cod (minimum size of 23 inches (58.4 cm) and possession limit of one fish per angler) would be maintained. The proposed measures are equivalent in purpose and effect to those the Council recommended for WGOM cod.

The proposed measures are expected to adequately constrain recreational catch of GOM haddock and GOM cod based on the bio-economic model estimates. The recreational sub-ACL considered under this proposed rule (currently implemented through the emergency action) is higher than the recreational sub-ACL used by the Council to consider WGOM recreational cod measures. Therefore, it is reasonable to apply the more conservative WGOM analysis to the GOM cod stock. The explanation that follows applies to the GOM cod stock despite its reference to the WGOM cod stock due to the analysis having been conducted for the potential WGOM cod stock.

To develop its recommendations, the Council considered projected recreational GOM haddock and WGOM cod removals based on several management measures scenarios. The scenarios included combinations of minimum fish sizes, possession limits, and closed seasons for GOM haddock and WGOM cod using a newly developed decision support tool (DST) created by the Northeast Fisheries Science Center.

The DST allowed the public and managers to input potential management measures for GOM haddock and WGOM cod simultaneously to estimate (based on the bio-economic model) how different measures would perform relative to the goal of the proactive AM. The DST considers measures for GOM haddock and WGOM cod in conjunction, because cod are commonly caught while recreational participants are targeting haddock, linking the catch and effort for each stock to the other. The DST draws from a distribution of: (1) fishing year 2024 Marine Recreational Information Program (MRIP) catch-per-trip; (2) fishing year 2024 MRIP catch-at-length adjusted for the projected size distribution of the stock in fishing year 2025; and (3) angler trip costs and characteristics from a survey of anglers. The DST provides the percent probability that the inputted measures constrain GOM haddock and WGOM cod catch to below the sub-ACL. Measures that result in model-estimated percent probability of 50 percent or less are generally considered unsatisfactory.

Recreational measures for GB cod were set by the May 1, 2025, emergency action, and are not proposed to change in this action.

Catch Thresholds for Scallop Fishery Accountability Measures

As a result of historically high levels of bycatch of flounder by the scallop fishery, the scallop fishery has sub-ACLs for several flatfish stocks: GB yellowtail flounder; SNE yellowtail flounder; northern windowpane flounder; and southern windowpane flounder. If the scallop fishery exceeds its sub-ACL for any stock, it is subject to AMs that, in general, restrict the scallop fishery in seasons and areas with high encounter rates for this stock. Currently, the scallop fishery is subject to AMs for these stocks if either: (1) the scallop fishery exceeds its sub-ACL and the total ACL is exceeded; or (2) the scallop fishery exceeds its sub-ACL by 50 percent or more. Previous frameworks have temporarily removed the second catch threshold for GB yellowtail flounder and northern windowpane flounder for select years. This was most recently done in Framework 66, which removed the second catch threshold for GB yellowtail founder for fishing years 2024 and 2025.

Framework 69 proposes to permanently remove the second catch threshold for GB yellowtail flounder and northern windowpane flounder, so that the scallop AMs for these two stocks would be implemented only if scallop fishery catch exceeds its sub-ACL by any amount and the total ACL is also exceeded. The second catch threshold would remain in place for the other two flatfish stocks with a scallop sub-ACL (SNE yellowtail flounder and southern windowpane flounder). This change is proposed to apply to overages caused by catch occurring in the 2025 fishing year, and would not affect any AMs due to previous years' overages.

In recent years, a significant portion of the overall ACLs for GB yellowtail flounder and northern windowpane flounder have remained uncaught as groundfish vessels have reduced their catch and avoided the stock. If catch leads to exceeding the total ACL, the appropriate AM (depending on the fishery or fisheries that contributed to the overage) would be put in place to prevent subsequent ACL overages and correct the cause of the overage. This measure is intended to provide the scallop fishery with flexibility to adjust to current catch conditions and better achieve optimum yield while still providing an incentive to avoid yellowtail flounder and northern windowpane flounder.

AMs are management controls to prevent ACLs, including sub-ACLs, from being exceeded, and to correct or mitigate overages of the ACL if they occur. AMs should address and minimize both the frequency and magnitude of overages and correct the problems that caused the overage in as short a time as possible. If an ACL is exceeded, AMs are implemented as soon as possible to correct the operational issue that caused the ACL overage, as well as any biological consequences to the stock resulting from the overage when it is known.

NMFS has concerns about the proposed permanent removal of the second catch threshold for these two stocks. In recent years, the scallop fishery has substantially exceeded its sub-ACL for northern windowpane (e.g., in 2023, the scallop fishery caught 398 percent of its sub-ACL), even in fishing years when the scallop fishery's northern windowpane AM was in place. This indicates that either the AM is not effectively reducing the scallop fishery's catch of northern windowpane flounder, that the scallop fishery's sub-ACL is set unrealistically low, or both. The removal of the second catch threshold would reduce the likelihood that the AM would be implemented, without correcting for the conditions that are causing the scallop fishery to exceed its sub-ACL.

Clarifying Regulatory Changes

This action would also make multiple changes to clarify, correct, or remove existing regulations necessary to effectively implement the FMP. As part of the development of Framework 69, many of these changes were considered as part of the effort to accommodate four stocks of Atlantic cod, which required NMFS' thorough review of the existing regulations. These changes would still apply regardless of the Atlantic cod stock structure.

This action would remove an out-of-date definition for “stocks targeted by default measures” from § 648.2 (Definitions). It would also add the missing phrase of “it is unlawful” to several parts of § 648.14(k) (Prohibitions), and update this section to reflect the proposed reorganization of other sections in Subpart F. This action would also reimplement a prohibition on failing to comply with seasonal recreational closures; this is not a new requirement, but the corresponding prohibition had been erroneously removed in a previous action.

This action proposes to revise § 648.82 to include effort controls for both limited access permits (currently already in that section) and open access permits (currently in § 648.88) for consistency and clarity. This proposed revision does not change the effort controls themselves. Any possession limits that were previously described in § 648.82 and § 648.88 would be moved to § 648.86, where other Northeast multispecies possession limits are described.

This action proposes to revise § 648.85, “Special management programs,” to clarify that common pool vessels fishing in special management programs or special access programs (which have their own set of possession limits) are also constrained by the possession limits more generally set for common pool vessels in § 648.86.

As described more fully under the Common Pool Trip Limits heading, this action proposes to revise § 648.86, “NE multispecies possession restrictions,” to be organized based on permit-type, rather than by species. It also would update the common pool possession and trip limits for stocks to reflect fishing year 2025 limits. This action also would remove the regulation from § 648.86 that requires vessels not using VMS to request a letter of authorization to be exempt from the GOM cod landing limits when fishing outside of the GOM cod stock area, as that measure is obsolete.

This action proposes several minor changes in § 648.87, “Sector allocation,” clarifying that in the case of overages, sector ACE, rather than PSC, is reduced. As permits are relinquished from one fishing year to the next, the PSCs are minutely adjusted so that the cumulative sum of PSCs remains 100 percent. However, the ACE associated with that PSC change based on shifts in quotas. An overage would require ACE payback, not a reduction in PSC.

Currently, stock area definitions for the Northeast multispecies stocks are found in either § 648.85 or § 648.87. This action proposes to consolidate those definitions into § 648.88. These areas are not changing, although the description of unit stocks such as pollock and redfish (i.e., species that have a single stock area) would be updated to be consistent between stocks.

In § 648.89, “Recreational and charter/party vessel restrictions,” a paragraph that was inadvertently removed in a previous action is reimplemented to allow recreational vessels in possession of cod or haddock that meet the possession limit, minimum size, and open season specified for one stock area to transit the other stock areas with that fish, as long as the vessel complies with certain stowage requirements.

Lastly, this action proposes to revise § 648.90, “NE multispecies assessment, framework procedures and specifications, and flexible area action system” to be organized to more clearly reflect how the ABC is distributed between portions of the fishery. It does not make changes to this process, only the order presented in the regulations.

Classification

Pursuant to section 304(b)(1)(A) of the Magnuson-Stevens Act, the NMFS Assistant Administrator has made a preliminary determination that this proposed rule is consistent with the FMP, Framework 69, provisions of the Magnuson-Stevens Act, and other applicable law, subject to further consideration after public comment. In making the final determination, the Regional Administrator will consider whether the data, views, and comments received during the public comment period for this action.

This proposed rule has been determined to be not significant for purposes of Executive Order 12866. This proposed rule is not an Executive Order 14192 regulatory action because this rule is not significant under Executive Order 12866.

An Initial Regulatory Flexibility Analysis (IRFA) was prepared for this proposed rule, as required by section 603 of the Regulatory Flexibility Act (RFA) (5 U.S.C. 603). The IRFA describes the economic impact that this proposed rule would have on small entities, including small businesses, and also determines ways to minimize these impacts. The IRFA includes this CLASSIFICATION and the Summary of Proposed Measures sections of this proposed rule and analyses contained in Framework 69 and its accompanying Environmental Assessment/Regulatory Impact Review/IRFA. A copy of the full analysis is available from the Council (see ADDRESSES). A summary of the IRFA follows.

Description of the Reasons Why Action by the Agency Is Being Considered and Statement of the Objectives of, and Legal Basis for, This Proposed Rule

This action proposes management measures, including annual catch limits, for the Northeast multispecies fishery in order to prevent overfishing, rebuild overfished groundfish stocks, and achieve optimum yield in the fishery, as required by the Magnuson-Stevens Act. A complete description of the action, why it is being considered, and the legal basis for this action are contained in Framework 69 (for measures specific to the Council's Framework 69), and in the SUPPLEMENTARY INFORMATION section of this proposed rule under the Summary of Proposed Measures heading (for measures specific to Framework 69, as well as measures that are separate from Framework 69, including the approval of sector operations plans and allocations, recreational measures, and common pool measures), and are not repeated here.

Description and Estimate of the Number of Small Entities to Which This Proposed Rule Would Apply

This proposed rule would impact the commercial and recreational groundfish, Atlantic sea scallop, small-mesh multispecies, Atlantic herring, and large-mesh non-groundfish fisheries. Individually permitted vessels may hold permits for several fisheries, harvesting species of fish that are regulated by several different FMPs, beyond those impacted by the proposed action. Furthermore, multiple-permitted vessels and/or permits may be owned by entities affiliated by stock ownership, common management, identity of interest, contractual relationships, or economic dependency. For the purposes of the RFA analysis, the ownership entities, not the individual vessels, are considered to be the regulated entities.

As of June 1, 2024, NMFS had issued 669 commercial limited-access groundfish permits associated with vessels (including those in confirmation of permit history (CPH)), 719 party/charter groundfish permits, 696 limited access and general category Atlantic sea scallop permits, 761 small-mesh multispecies permits, 71 Atlantic herring permits, and 743 large-mesh non-groundfish permits (i.e., limited access summer flounder and scup permits). Therefore, this action potentially regulates 3,659 permits. When accounting for overlaps between fisheries, this number reduces to 2,144 permitted vessels. Each vessel may be individually owned or part of a larger corporate ownership structure and, for RFA purposes, it is the ownership entity that is ultimately regulated by the proposed action. Ownership entities are identified on June 1st of each year based on the list of all permit numbers, for the most recent complete calendar year, that have applied for any type of Greater Atlantic Region Federal fishing permit. The current ownership data set is based on calendar year 2023 permits and contains gross sales associated with those permits for calendar years 2019 through 2023.

For RFA purposes only, NMFS has established a small business size standard for businesses, including their affiliates, whose primary industry is commercial fishing (see § 200.2). A business primarily engaged in commercial fishing (NAICS code 11411) is classified as a small business if it is independently owned and operated, is not dominant in its field of operation (including its affiliates), and has combined annual receipts not in excess of $11 million for all its affiliated operations worldwide. The determination as to whether the entity is large or small is based on the average annual revenue for the five years from 2019 through 2023. The Small Business Administration (SBA) has established size standards for all other major industry sectors in the U.S., including for-hire fishing (NAICS code 487210). These entities are classified as small businesses if combined annual receipts are not in excess of $8.0 million for all of an entity's affiliated operations. As with commercial fishing businesses, the annual average of the three most recent years (2019-2023) is utilized in determining annual receipts for businesses primarily engaged in for-hire fishing.

Based on the ownership data, 1,648 distinct business entities hold at least one permit that the proposed action potentially regulates. All 1,648 business entities identified could be directly regulated by this proposed action. Of these 1,648 entities, 891 are commercial fishing entities, 326 are for-hire entities, and 431 did not have revenues (were inactive in 2023). Of the 891 commercial fishing entities, 881 are categorized as small entities and 10 are categorized as large entities, per the NMFS guidelines. Furthermore, 412 of these commercial fishing entities held limited access groundfish permits, with 408 of these entities being classified as small businesses and 4 of these entities being classified as large businesses. All 326 for-hire entities are categorized as small businesses.

Description of the Projected Reporting, Record-Keeping, and Other Compliance Requirements of This Proposed Rule

The proposed action does not contain any new collection-of-information requirements under the Paperwork Reduction Act (PRA) (44 U.S.C. 3501 et seq.), but it does remove three existing requirements. This action proposes to remove the regulation requiring sectors to provide a list of State and Federal permits owned by its members, the regulation requiring sectors to submit weekly catch reports, and the regulation requiring vessels not using VMS to request a letter of authorization to be exempt from the GOM cod landing limits when fishing outside of the GOM cod stock area, which will no longer exist. The removal of these requirements and PRA implications is described more fully below.

Federal Rules Which May Duplicate, Overlap, or Conflict With This Proposed Rule

The proposed action does not duplicate, overlap, or conflict with any other Federal rules.

Description of Significant Alternatives to the Proposed Action Which Accomplish the Stated Objectives of Applicable Statutes and Which Minimize Any Significant Economic Impact on Small Entities

The economic impacts of each proposed measure are discussed in more detail in sections 6.5 and 7.12 of the draft Framework 69 Environmental Assessment (see ADDRESSES) and are not repeated here. The EA also included the economic impact of measures relating to the four stocks of cod, which are not proposed in this rule, due to the disapproval of Amendment 25. Additionally, a supplemental information report was prepared to support the May 2, 2025, emergency action, which is the current status quo and represents the No Action alternative if the measures proposed in this rule are not approved. The Council considered only the No Action alternative and the measures proposed in this rule. The Council develops “ACLs for each of its managed fisheries that may not exceed the `fishing level recommendations' of its SSC or peer review process” (16 U.S.C. 302(h)(6); see also 50 CFR 600.310(b)(2)(v)(D)). The proposed catch limits (ABCs and associated ACLs) in this action are the least restrictive as practicably could be set without exceeding the SSC's advice, as required pursuant to the Magnuson-Stevens Act, were recommended by the Council consistent with previously set formulas, and are consistent with the Magnuson-Stevens Act's requirement to prevent overfishing. The No Action alternative for catch limits no longer reflects the best scientific information available and is therefore not consistent with National Standard 2 of the Magnuson-Stevens Act. Under the provisions of the Magnuson-Stevens Act, on behalf of the Secretary of Commerce, GARFO's Regional Administrator approves, disapproves, or partially approves measures that the Council recommends, based on consistency with the Act and other applicable law. The proposed action is predicted to generate $34.7 million in gross revenues for the sector portion of the commercial groundfish trips. Relative to the status quo under the emergency action, this is approximately $1.3 million more gross revenue, and therefore the overall proposed action is predicted to result in positive impacts relative to No Action. However, the proposed action is predicted to result in $7.0 million less than the amount of gross revenues generated in fishing year 2023. Small entities engaged in common pool groundfish fishing are expected to be positively impacted by the proposed action, relative to the No Action alternative. Small entities engaged in the recreational groundfish fishery are likely to be positively impacted by the increase in the GOM haddock sub-ACL. The proposed recreational measures for GOM cod and GOM haddock are expected to have a positive effect on small entities, because they are expected to increase opportunity to harvest GOM cod and GOM haddock compared to status quo measures. The proposed modification to the scallop fishery's AM catch threshold for GB yellowtail flounder and northern windowpane flounder will reduce the likelihood of negative impacts to the scallop fishery. The proposed action reduces the allocation of GB haddock to the midwater trawl fishery relative to fishing year 2024, but increases the allocation of GOM haddock, and increases the allocation of GB yellowtail flounder to the small-mesh multispecies fishery. Given that utilization rates for all three stocks by these fisheries have been low in recent years, these fisheries are not expected to be negatively impacted by these changes.

This proposed rule contains a collection-of-information requirement subject to review and approval by the Office of Management and Budget (OMB) under the PRA. This rule is requesting an extension to and a revision of the existing requirements for the collection of information 0648-0605, Northeast Multispecies Reporting Requirements, by removing the regulation that requires sectors to report ACE on a weekly basis; removing the regulation that provides an option for sectors increase the frequency of ACE reporting for sectors when the balance of remaining ACE is low, as specified in the sector operations plan and approved by NMFS; and removing the regulation that requires sectors to include in their operations plan a list of all Federal and State permits held by persons participating in the sector, including an indication for each permit whether it is enrolled and will actively fish in a sector, or will be subject to the provisions of the common pool. Removing these requirements reduces the burden hours for reporting by sectors by 0.2 hours per response for the removal of the regulation to report ACE on a weekly basis, and by 33 hours per response for the removal of the regulation to include a list of permits. These changes will not affect the number of respondents or anticipated number of responses.

Public reporting burden for sector operations plan and membership list updates is estimated to average 77 hours per response, including the time for reviewing instructions, searching existing data sources, gathering and maintaining the data needed, and completing and reviewing the collection of information. Public reporting burden for sector weekly reports is estimated to average 0.1 hours per response, including the time for reviewing instructions, searching existing data sources, gathering and maintaining the data needed, and completing and reviewing the collection of information.

This proposed rule would also remove the regulation requiring vessels not using VMS to request a letter of authorization to be exempt from the GOM cod landing limits when fishing outside of the GOM cod stock area. This would result in a change to the collection of information 0648-0202, Greater Atlantic Region Permit Family of Forms. The removal of this regulation would reduce the public reporting burden by approximately 0.085 hours per response.

Public comment is sought regarding: whether this proposed collection of information is necessary for the proper performance of the functions of the agency, including whether the information shall have practical utility; the accuracy of the burden estimate; ways to enhance the quality, utility, and clarity of the information to be collected; and ways to minimize the burden of the collection of information, including through the use of automated collection techniques or other forms of information technology. Submit comments on these or any other aspects of the collection of information at: https://www.reginfo.gov/public/do/PRAMain.

Notwithstanding any other provision of the law, no person is required to respond to, nor shall any person be subject to a penalty for failure to comply with, a collection of information subject to the requirements of the PRA, unless that collection of information displays a currently valid OMB Control Number.

List of Subjects in 50 CFR Part 648

Fisheries, Fishing, Recordkeeping, and reporting requirements.

Dated: December 1, 2025.
Samuel D. Rauch III,
Deputy Assistant Administrator for Regulatory Programs, National Marine Fisheries Service.

For the reasons stated in the preamble, NMFS proposes to amend 50 CFR part 648 as follows:

PART 648—FISHERIES OF THE NORTHEASTERN UNITED STATES

1. The authority citation for part 648 continues to read as follows:

Authority: 16 U.S.C. 1801 et seq.

2. In § 648.2, remove the definition “Stocks targeted by the default measures”.

3. Amend § 648.11 by revising paragraphs (l)(8) and (l)(10)(iii) to read as follows:

§ 648.11 Monitoring coverage.

* * * * *

(l) * * *

(8) Notification of monitoring service provider change. A sector manager must first inform NMFS in writing in advance of the effective date of any change in the sector's choice of approved monitoring service providers used to provide at-sea or electronic monitoring services required in paragraph (l)(2) of this section. A sector may use more than one approved monitoring service provider at any time, provided any monitoring service provider employed by or contracted with a sector meets the standards specified in paragraph (b)(4) of this section.

* * * * *

(10) * * *

(iii) Sector requirements. Each sector shall monitor its vessels' catch to ensure that ACEs are not exceeded during the fishing year, as specified in this paragraph (l)(10)(iii). The sector shall summarize trips validated by dealer reports; oversee the use of electronic monitoring equipment and review of associated data; maintain a database of VTR, dealer, observer, and electronic monitoring reports; determine all species landings by stock areas; apply discard estimates to landings; and deduct catch from ACEs allocated to sectors; and report sector compliance/enforcement issues on a weekly basis to NMFS, as required in § 648.87(b)(1)(v). Unless otherwise specified in this paragraph (l)(10), all catches of stocks allocated to sectors by vessels on a sector trip shall be deducted from the sector's ACE for each regulated species stock regardless of the fishery the vessel was participating in when the fish was caught. For the purposes of this paragraph (l)(10), any regulated species or ocean pout caught using gear capable of catching NE multispecies (i.e., gear not listed as exempted gear under this part) would be deducted from a sector's ACE if such catch contributed to the specification of PSC, as described in § 648.87(b)(1)(i)(E), and would not apply to another ACL sub-component pursuant to § 648.90(a)(4). For example, any regulated species or ocean pout landed while fishing for or catching skates or monkfish pursuant to the regulations in this chapter for those fisheries would be deducted from the sector's ACE for each stock because such regulated species or ocean pout were caught while also operating under a NE multispecies DAS. However, for example, if a sector vessel is issued a limited access General Category Atlantic Sea Scallop permit and fishes for scallops under the provisions specific to that permit, any yellowtail flounder caught by the vessel on such trips would be deducted from the appropriate non-groundfish component, such as the other sub-component or the appropriate yellowtail flounder stock's ACL specified for the Atlantic Sea Scallop fishery and not from the yellowtail flounder ACE for the sector.

* * * * *

4. Amend § 648.14 as follows:

a. Remove and reserve paragraph (k)(9)(i);

b. Revise paragraphs (k)(11)(i)(A) introductory text and (B), (k)(11)(ii), (iii) introductory text, (iv) introductory text, (v) introductory text, and (vi), (k)(12)(ii), (iii) introductory text, (v) introductory text, (vi)(A) introductory text and (B) introductory text, and paragraph (k)(13)(ii) introductory text;

c. Remove paragraphs (k)(13)(ii)(D) through (H) and redesignate paragraphs (k)(13)(ii)(I) and (J) as (k)(13)(ii)(D) and (E), respectively;

d. Revise paragraph (k)(15)(i) introductory text;

e. Remove paragraph (k)(15)(i)(C);

f. Revise paragraph (k)(15)(ii)(A)(4);

g. Remove paragraph (k)(15)(ii)(A)(5); and

h. Revise paragraphs (k)(16)(iii)(A) and (C).

The revisions are to read as follows:

§ 648.14 Prohibitions.

* * * * *

(k) * * *

(11) * * *

(i) * * *

(A) All Persons. It is unlawful for any person to do any of the following:

* * * * *

(B) Vessel and operator permit holders. It is unlawful for any person to fail to comply with the GB yellowtail flounder trip limit specified under § 648.85(a)(3)(iv)(C).

(ii) Gear requirements for all persons. It is unlawful for any person, if fishing with trawl gear under a NE multispecies DAS or on a sector trip in the Eastern U.S./Canada Area defined in § 648.85(a)(1)(ii), to fail to fish with a haddock separator trawl, flounder trawl net, or Ruhle trawl, as specified in § 648.85(a)(3)(iii) and (b)(6)(iv)(J)(1), unless using other gear authorized under § 648.85(b)(6) or (8).

(iii) Notification and VMS requirements for all persons. It is unlawful for any person to do any of the following:

* * * * *

(iv) Reporting requirements for all persons. It is unlawful for any person to do any of the following:

* * * * *

(v) DAS. It is unlawful for any person to do any of the following:

* * * * *

(vi) Closure of the U.S./Canada Area for all persons. It is unlawful for any person if fishing under a NE multispecies DAS or on a sector trip, to declare into, enter, or fish in the Eastern U.S./Canada Area specified in § 648.85(a)(1) if the area is closed under the authority of the Regional Administrator as described in § 648.85(a)(3)(iv)(D) or (E), unless fishing in the Closed Area II Yellowtail Flounder/Haddock SAP specified in § 648.85(b)(3) or the Eastern U.S./Canada Haddock SAP Program specified in § 648.85(b)(7).

(12) * * *

(ii) General restrictions for vessel and operator permit holders. It is unlawful for any person to discard legal-sized NE regulated multispecies, ocean pout, or Atlantic halibut while fishing under a SAP, as described in §§ 648.85(b)(3)(xi) or 648.85(b)(7)(v)(I).

(iii) Closed Area II Yellowtail Flounder/Haddock SAP restrictions for all persons. It is unlawful for any person to do any of the following:

* * * * *

(v) Regular B DAS Program restrictions for vessel and operator permit holders. It is unlawful for any person to do any of the following:

* * * * *

(vi) * * *

(A) All Persons. It is unlawful for any person to do any of the following:

* * * * *

(B) Vessel and operator permit holders. It is unlawful for any person to do any of the following:

* * * * *

(13) * * *

(ii) Vessel and operator permit holders. It is unlawful for any person to do any of the following:

* * * * *

(15) * * *

(i) All persons. It is unlawful for any person to do any of the following:

* * * * *

(ii) * * *

(A) * * *

(4) Fish for, possess, or land NE multispecies from March 1 to March 20, as specified in § 648.82(m)(1)(ii).

* * * * *

(16) * * *

(iii) * * *

(A) Fail to comply with the applicable restrictions if transiting a stock area with cod or haddock on board that was caught from a different stock area, as specified in §§ 648.89(b)(2)(ii) and (c)(8).

* * * * *

(C) If the vessel is a private recreational fishing vessel, fail to comply with the seasonal closure for cod or haddock described in § 648.89(c)(1) or, if the vessel has been issued a charter/party permit or is fishing under charter/party regulations, fail to comply with the seasonal closure for cod or haddock described in § 648.89(c)(2).

* * * * *

5. Amend § 648.82 as follows:

a. Revise the section heading at § 648.82;

b. Add paragraph heading for paragraph (a) introductory text;

c. Revise paragraph heading of paragraph (b) introductory text;

d. Revise paragraphs (b)(5) and (6), (d)(1)(iv)(A) and (B), (d)(2)(i)(B)(4)(i), and (d)(2)(ii)(B)(4)(i);

e. Add paragraph (e)(1)(ii);

f. Revise paragraph (e)(3);

g. Add paragraph (m);

h. Remove and reserve paragraph (n)(1);

i. Revise paragraph (n)(2) introductory text;

j. Remove paragraph (o).

The revisions and additions read as follows:

§ 648.82 Effort-control program for NE multispecies vessels.

* * * * *

(a) Limited access NE multispecies vessels. * * *

* * * * *

(b) Limited access permit categories. * * *

* * * * *

(5) Small Vessel category. A vessel qualified and electing to fish under the Small Vessel category may operate without using a DAS, provided the vessel does not exceed the possession restrictions specified at § 648.86(a)(2). The vessel may not fish for, possess, or land regulated species from March 1 through March 20 of each year, as described in paragraph (g) of this section. Any vessel may elect to switch into the Small Vessel category, as provided in § 648.4(a)(1)(i)(I)(2), if the vessel meets or complies with the following:

(i) The vessel is 30 ft (9.1 m) or less in length overall, as determined by measuring along a horizontal line drawn from a perpendicular raised from the outside of the most forward portion of the stem of the vessel to a perpendicular raised from the after most portion of the stern.

(ii) If construction of the vessel was begun after May 1, 1994, the vessel must be constructed such that the quotient of the length overall divided by the beam is not less than 2.5.

(iii) Acceptable verification for vessels 20 ft (6.1 m) or less in length shall be U.S. Coast Guard documentation or State registration papers. For vessels over 20 ft (6.1 m) in length overall, the measurement of length must be verified in writing by a qualified marine surveyor, or the builder, based on the vessel's construction plans, or by other means determined acceptable by the Regional Administrator. A copy of the verification must accompany an application for a NE multispecies permit.

(iv) Adjustments to the Small Vessel category requirements, including changes to the length requirement, if required to meet fishing mortality goals, may be made by the Regional Administrator following framework procedures of § 648.90.

(6) Handgear A category. A vessel qualified and electing to fish under the Handgear A category, as described in § 648.4(a)(1)(i)(A), may retain, per trip, the possession limits for all regulated species and ocean pout, as specified under § 648.86(a)(3). Qualified vessels electing to fish under the Handgear A category are subject to the following restrictions:

(i) The vessel must not use or possess on board gear other than handgear while in possession of, fishing for, or landing NE multispecies; and

(ii) Tub-trawls must be hand-hauled only, with a maximum of 250 hooks.

* * * * *

(d) * * *

(1) * * *

(iv) * * *

(A) For a vessel fishing under the provisions of the common pool, as defined in this part, Category A DAS are defined as 27.5 percent of the vessel's used DAS baseline specified in paragraph (c)(1) of this section, unless otherwise reduced pursuant to § 648.87(b)(1)(iii).

(B) For a sector vessel, Category A DAS allocated for use when fishing in other fisheries that require the concurrent use of a NE multispecies DAS are defined as 45 percent of the vessel's used DAS baseline specified in paragraph (c)(1) of this section.

(2) * * *

(i) * * *

(B) * * *

(4) * * *

(i) For a common pool vessel, Regular B DAS are defined as 36.25 percent of the vessel's used DAS baseline specified in paragraph (c)(1) of this section.

* * * * *

(ii) * * *

(B) * * *

(4) * * *

(i) For a common pool vessel, Reserve B DAS are defined as 36.25 percent of the vessel's used DAS baseline specified in paragraph (c)(1) of this section.

* * * * *

(e) * * *

(1) * * *

(ii) Sector vessels. For the purposes of complying with the restrictions of other fisheries that require the use of a NE multispecies DAS, a vessel on a sector trip shall accrue DAS to the nearest minute and shall be counted as actual time called or logged into the DAS program, consistent with the DAS notification requirements specified in § 648.10.

* * * * *

(3) Regular B DAS Program 24-hr clock. For a vessel electing to fish in the Regular B DAS Program, as specified at § 648.85(b)(6), that remains fishing under a Regular B DAS for the entire fishing trip (without a DAS flip), DAS shall accrue at the rate of 1 full DAS for each calendar day, or part of a calendar day fished. For example, a vessel that fished on 1 calendar day from 6 a.m. to 10 p.m. would be charged 24 hr of Regular B DAS, not 16 hr; a vessel that left on a trip at 11 p.m. on the first calendar day and returned at 10 p.m. on the second calendar day would be charged 48 hr of Regular B DAS instead of 23 hr, because the fishing trip would have spanned 2 calendar days. For the purpose of calculating trip limits specified under § 648.86, the amount of DAS deducted from a vessel's DAS allocation shall determine the amount of fish the vessel can land legally. For vessels electing to fish in both the Regular B DAS Program, as specified in § 648.85(b)(6), and in the Eastern U.S./Canada Area, as specified in § 648.85(a), DAS counting will begin and end according to the DAS rules specified in § 648.10(e)(5)(iv).

* * * * *

(m) Multispecies open access permit restrictions. (1) Handgear B permit. A vessel issued a valid Handgear B permit, as described in § 648.4(a)(1)(ii), may retain, per trip, the possession limits for all regulated species and ocean pout, as specified under § 648.86(a)(4). Qualified vessels electing to fish under the Handgear B category are subject to the following restrictions:

(i) The vessel may not use or possess on board gear other than handgear while in possession of, fishing for, or landing NE multispecies, and must have at least one standard tote on board;

(ii) The vessel may not fish for, possess, or land regulated species from March 1 through March 20 of each year as described in paragraph (g) of this section; and

(iii) The vessel, if fishing with tub-trawl gear, may not fish with more than a maximum of 250 hooks.

(2) Charter/party permit. A vessel that has been issued a valid open access NE multispecies charter/party permit is subject to the additional restrictions on gear, recreational minimum fish sizes, possession limits, and prohibitions on sale specified in § 648.89, and any other applicable provisions of this part.

(3) Scallop NE multispecies possession limit permit. A vessel that has been issued a valid open access scallop NE multispecies possession limit permit must not exceed the possession limit restrictions in 648.86(c)(3).

(4) Non-regulated NE multispecies permit. A vessel issued a valid open access non-regulated NE multispecies permit may possess and land one Atlantic halibut and unlimited amounts of the other non-regulated NE multispecies, unless otherwise restricted by § 648.86. The vessel is subject to restrictions on gear, area, and time of fishing specified in § 648.80 and any other applicable provisions of this part.

* * * * *

(n) * * *

(2) Trimester TAC AM. Common pool vessels shall be subject to the following restrictions: * * * * *

6. Amend § 648.85 as follows:

a. Revise paragraph (a)(3)(iv) introductory text, paragraph (b)(3)(viii) introductory text, and paragraph (b)(6)(iv)(F);

b. Remove and reserve paragraph (b)(6)(v); and

c. Revise paragraph (b)(7)(v)(F).

The revisions read as follows:

§ 648.85 Special management programs.

(a) * * *

(3) * * *

(iv) Harvest controls. Unless otherwise specified in this paragraph (a)(3)(iv), any NE multispecies vessel fishing in the U.S./Canada Management Areas is subject to the following restrictions. A common pool vessel is subject to the trip limits specified in this paragraph (a)(3)(iv), as well as the possession or landing limits in this part, including § 648.86. A sector vessel is subject to the trip limits specified in § 648.87(b)(1)(viii).

* * * * *

(b) * * *

(3) * * *

(viii) Trip limits. Vessels subject to the provisions of the common pool that are fishing in the Closed Area II Yellowtail Flounder/Haddock SAP are subject to the following trip limits, as well as the possession or landing limits in this part, including § 648.86. Vessels subject to the restrictions and conditions of an approved sector operations plan fishing in the Closed Area II Yellowtail Flounder/Haddock SAP are subject to the trip limits specified in § 648.87(b)(1)(viii).

* * * * *

(6) * * *

(iv) * * *

(F) Minimum Category A DAS and B DAS accrual. For a vessel fishing under the Regular B DAS Program, the number of Regular B DAS that may be used on a trip cannot exceed the number of Category A DAS that the vessel has at the start of the trip. A vessel fishing in the Regular B DAS Program for its entire trip shall accrue DAS in accordance with § 648.82(e)(1).

* * * * *

(7) * * *

(v) * * *

(F) Landing limits. Vessels subject to the provisions of the common pool that are fishing any portion of a trip in the Eastern U.S./Canada Haddock SAP are subject to the following possession limits, as well as the possession or landing limits in this part, including paragraph (a)(3)(iv) of this section and § 648.86: 1,000 lb (453.6 kg) of cod, per trip, regardless of trip length and 100 lb (45.4 kg) per DAS, or any part of a DAS, of GB yellowtail flounder, up to a maximum of 500 lb (227 kg) of all flatfish species, combined. Possession of monkfish (whole weight) and skates (whole weight) is limited to 500 lb (227 kg) each, unless otherwise restricted by § 648.94(b)(3), and possession of lobsters is prohibited. A sector vessel is subject to the trip limits specified in § 648.87(b)(1)(viii).

* * * * *

7. Amend § 648.86 as follows:

a. Revise section heading;

b. Revise paragraphs (a) through (c);

c. Remove paragraph (e);

d. Redesignate paragraph (d) as paragraph (e);

e. Add new paragraph (d); and

f. Remove paragraphs (f) through (o).

The revisions and additions read as follows:

§ 648.86 NE Multispecies commercial possession restrictions.

* * * * *

(a) NE multispecies common pool vessels.

(1) DAS Permits. A common pool vessel issued a valid Federal NE multispecies DAS permit specified under § 648.4(a)(1) is subject to the following possession limits for regulated multispecies and may not possess or land more than the amounts listed in Table 1 to paragraph (a)(1) for each DAS or part of a DAS fished, up to the amount listed per trip, unless changed by the Regional Administrator through an inseason action, as specified at paragraph (a)(5) of this section. Current possession limits, as adjusted by any inseason actions, are available at: https://www.fisheries.noaa.gov/new-england-mid-atlantic/commercial-fishing/northeast-multispecies-common-pool-fishery.

BILLING CODE 3510-22-P

BILLING CODE 3510-22-C

(2) Small vessel permits. A vessel qualified and electing to fish under the Small Vessel category, as described at § 648.82(b)(5), may retain up to 300 lb (136.1 kg) of cod, haddock, and yellowtail flounder, combined, provided the vessel does not exceed the NE multispecies DAS permit daily possession restrictions for these stocks specified at paragraphs (a)(1) and (b) of this section. Such a vessel may retain, per trip, up to the daily possession limits for other NE multispecies, as specified at paragraphs (a)(1) and (b) of this section. If there is no daily possession limit for a stock, as specified in paragraph (a)(1), such a vessel may retain, per trip, up to the trip limit specified in paragraph (a)(1).

(3) Handgear A permits. A vessel qualified and electing to fish under the Handgear A category, as described at § 648.82(b)(6), may retain, per trip, up to the daily possession limit for NE multispecies, as specified under paragraphs (a)(1) and (b) of this section, provided the vessel complies with the restrictions and conditions specified in § 648.82(b)(6). If there is no daily possession limit for a stock, as specified in paragraph (a)(1), a Handgear A vessel may retain, per trip, up to the trip limit specified in paragraph (a)(1). The Handgear A possession limit for cod stocks cannot exceed 300 lb (136.1 kg) per trip. For example, if the GB cod trip limit for NE multispecies DAS vessels was increased to 350 lb (158.8 kg) per DAS, then the GB cod trip limit for a vessel issued a Handgear A category permit would be 300 lb (136.1 kg).

(4) Handgear B permits. A vessel qualified and electing to fish under the Handgear B category, as described in § 648.82(m)(1), may retain, per trip, up to the daily possession limit restrictions for NE multispecies other than cod as specified in paragraphs (a)(1) and (b) of this section, provided the vessel complies with the restrictions and conditions specified in § 648.82(m)(1). If there is no daily possession limit for a stock, as specified in paragraph (a)(1), a Handgear B vessel may retain, per trip, up to the trip limit specified in paragraph (a)(1). For cod stocks, a vessel fishing under the Handgear B permit may retain up to 25 lb (11.3 kg) per trip, unless the trip limit applicable to a vessel fishing under a NE multispecies DAS permit has been set to 0 lb, in which case the Handgear B possession limit is also 0 lb. NMFS may adjust the cod possession limit for Handgear B vessels, as specified under at paragraph (a)(5) of this section, but this possession limit for cod stocks cannot exceed 75 lb (34 kg) per trip.

(5) Regional Administrator authority to implement or modify possession limits—

(i) Possession restrictions to prevent exceeding common pool sub-ACLs. If the Regional Administrator projects that the catch of any NE multispecies stock allocated to common pool vessels pursuant to § 648.90(a)(4) will exceed the pertinent sub-ACL, NMFS may implement or adjust at any time prior to or during the fishing year, in a manner consistent with the Administrative Procedure Act, a per-DAS possession limit and/or a trip limit, as specified in paragraphs (a)(1) through (4) of this section, in order to prevent exceeding the common pool sub-ACL in that fishing year.

(ii) Possession restrictions to facilitate harvest of sub-ACLs allocated to the common pool. If the Regional Administrator projects that the sub-ACL of any stock allocated to the common pool pursuant to § 648.90(a)(4) will not be caught during the fishing year, the Regional Administrator may remove or adjust, in a manner consistent with the Administrative Procedure Act, a per-DAS possession limit and/or a trip limit, as specified in paragraphs (a)(1) through (4) of this section, in order to facilitate harvest and enable the total catch to approach, but not exceed, the pertinent sub-ACL allocated to the common pool for that fishing year.

(6) Additional possession restrictions for common pool vessels.

(i) Daily landing restriction. A vessel issued a limited access NE multispecies permit or an open access NE multispecies Handgear B permit may land regulated species or ocean pout only once in any 24-hr period, based upon the time the vessel lands following the end of the previous trip. For example, if a vessel lands 1,600 lb of pollock at 6 p.m. on Tuesday, that vessel cannot land any more regulated species or ocean pout until at least 6 p.m. on the following Wednesday.

(ii) Possession limits for vessels fishing in multiple areas. If any NE multispecies permitted vessel fishes in more than one stock area on the same trip, as defined in § 648.88, the most restrictive trip limit for a species applies for the entire trip. For example, if the trip limit for GB winter flounder is 500 lb and the GOM winter flounder trip limit is 2,000 lb, a vessel fishing in both the GB and GOM winter flounder stock areas on the same trip cannot possess more than 500 lb of winter flounder on that trip.

(iii) Cod. Cod on board a vessel subject to the possession limits in paragraph (a) of this section must be separated from other species of fish and stored so as to be readily available for inspection.

(iv) Yellowtail flounder. A vessel fishing in the GB yellowtail stock area defined at § 648.88(a)(7), but exclusively outside of the U.S./Canada Management Area, as defined in § 648.85(a)(1), is subject to the GB yellowtail flounder limit described in paragraph (a) of this section. A vessel fishing in the U.S./Canada Management Area defined in § 648.85(a)(1) is subject to the GB yellowtail flounder limit described in paragraph § 648.85(a)(3)(iv)(C). A vessel fishing outside and inside of the U.S./Canada Management Area on the same trip is subject to the most restrictive yellowtail flounder trip limit (i.e., the most restrictive of all the trip limits for all three yellowtail flounder stocks, as specified by paragraph (a) of this section or § 648.85(a)(3)(iv)(C)).

(v) Offloading requirement for vessels possessing species regulated by a daily possession limit. A vessel that has ended a trip as specified in § 648.10(e)(2)(iii) or (h)(5) that possesses on board species regulated by a daily possession limit (i.e., pounds per DAS), as specified at § 648.85 or § 648.86, must offload species in excess of the daily possession limit prior to leaving port on a subsequent trip. A vessel may retain on board up to one day's worth of such species prior to the start of a subsequent trip. Other species regulated by an overall trip limit may be retained on board for a subsequent trip. For example, a vessel that possesses haddock and winter flounder harvested from Gulf of Maine is subject to a daily possession limit for haddock of 1,000 lb (453 kg)/DAS and an overall trip limit of 2,000 lb (907 kg)/trip for winter flounder (no daily possession limit). In this example, the vessel would be required to offload any haddock harvested in excess of 1,000 lb (453 kg) (i.e., the vessel may retain up to 1,000 lb (453 kg) of GOM haddock, and must offload any additional haddock), but may retain 2,000 lb of winter flounder prior to leaving port and crossing the VMS Demarcation Line to begin a subsequent trip.

(b) NE multispecies vessels.

(1) Atlantic halibut. A vessel issued a NE multispecies permit under § 648.4(a)(1) may land or possess on board no more than one Atlantic halibut per trip, provided the vessel complies with other applicable provisions of this part, unless otherwise specified in the Atlantic halibut accountability measures at § 648.90(a)(5)(i)(F).

(2) Ocean pout, windowpane flounder, and Atlantic wolffish. A vessel issued a limited access NE multispecies permit or an open access NE multispecies Handgear B permit may not fish for, possess, or land ocean pout, windowpane flounder, or Atlantic wolffish.

(3) Calculation of weight of fillets or parts of fish. The possession limits described under this part are based on the weight of whole, whole-gutted, or gilled fish. For purposes of determining compliance with the possession limits specified in this section, the weight of fillets and parts of fish, other than whole-gutted or gilled fish, as allowed under § 648.83(a) and (b), will be multiplied by 3.

(4) Other possession restrictions. Vessels are subject to any other applicable possession limit restrictions of this part, including, but not limited to, the possession limits for other FMPs and special management programs.

(c) Scallop dredge vessels.

(1) Haddock prohibition. No person owning or operating a scallop dredge vessel may land haddock from, or possess haddock on board, a scallop dredge vessel from January 1 through June 30.

(2) Haddock possession. Unless otherwise authorized by the Regional Administrator, scallop dredge vessels or persons owning or operating a scallop dredge vessel that is fishing under a scallop DAS allocated under § 648.53 may land or possess on board up to 300 lb (136.1 kg) of haddock, provided the vessel does not fish for, possess, or land haddock from January 1 through June 30, as specified under paragraph (c)(1) of this section, except as specified in paragraph (c)(3) of this section, provided that the vessel has at least one standard tote on board. This restriction does not apply to vessels also issued limited access NE multispecies permits that are fishing under a multispecies DAS. Haddock on board a vessel subject to this possession limit must be separated from other species of fish and stored so as to be readily available for inspection.

(3) Scallop NE multispecies possession limit permit. With the exception of vessels fishing in the Sea Scallop Access Areas as specified in § 648.59(b) through (d), a vessel that has been issued a valid open access scallop NE multispecies possession limit permit may possess and land up to 300 lb (136.1 kg) of regulated NE multispecies when fishing under a scallop DAS allocated under § 648.53, provided the vessel does not fish for, possess, or land haddock from January 1 through June 30, as specified under paragraph (c)(1) of this section, and provided that the amount of regulated NE multispecies on board the vessel does not exceed any of the pertinent trip limits specified under § 648.86, and provided the vessel has at least one standard tote on board, as defined at § 648.2. A vessel fishing in the Sea Scallop Access Areas as specified in §§ 648.59(b) through (d) is subject to the possession limits specified in § 648.59(b)(5).

(d) Incidental catch allowance for some Atlantic herring vessels. A vessel issued a Category A or B Herring Permit fishing on a declared herring trip, regardless of gear or area fished, or a vessel issued a Category C, D, or E Herring Permit and fishing with midwater trawl gear pursuant to § 648.80(d), may only possess and land haddock, in accordance with requirements specified in § 648.80(d) and (e).

(1) Haddock incidental catch cap. When the Regional Administrator has determined that the incidental catch allowance for a given haddock stock, as specified in § 648.90(a)(4)(iii)(E), has been caught, no vessel issued an Atlantic herring permit and fishing with midwater trawl gear in the applicable stock area, i.e., the Herring GOM Haddock Accountability Measure (AM) Area or Herring GB Haddock AM Area, as defined in paragraphs (d)(2) and (3) of this section, may fish for, possess, or land herring in excess of 2,000 lb (907.2 kg) per trip in or from that area, unless all herring possessed and landed by the vessel were caught outside the applicable AM Area and the vessel's gear is stowed and not available for immediate use as defined in § 648.2 while transiting the AM Area. Upon this determination, the haddock possession limit is reduced to 0 lb (0 kg) for a vessel issued a Federal Atlantic herring permit and fishing with midwater trawl gear or for a vessel issued a Category A or B Herring Permit fishing on a declared herring trip, regardless of area fished or gear used, in the applicable AM Area, unless the vessel also possesses a NE multispecies permit and is operating on a declared (consistent with § 648.10(g)) NE multispecies trip. In making this determination, the Regional Administrator shall use haddock catches observed by observers or monitors on herring vessel trips using midwater trawl gear in Management Areas 1A, 1B, and/or 3, as defined in § 648.200(f)(1) and (3), expanded to an estimate of total haddock catch for all such trips in a given haddock stock area.

(2) Herring GOM Haddock Accountability Measure Area. The Herring GOM Haddock AM Area is defined by the straight lines connecting the following points in the order stated (copies of a map depicting the area are available from the Regional Administrator upon request):

BILLING CODE 3510-22-P

(3) Herring GB Haddock Accountability Measure Area. The Herring GB Haddock AM Area is defined by the straight lines connecting the following points in the order stated (copies of a map depicting the area are available from the Regional Administrator upon request):

BILLING CODE 3510-22-C

(4) Fishing years. The haddock incidental catch caps specified are for the NE multispecies fishing year (May 1-April 30), which differs from the herring fishing year (January 1-December 31). If the haddock incidental catch allowance is attained by the herring midwater trawl fishery for the GOM or GB, as specified in § 648.90(a)(4)(iii)(E), the 2,000-lb (907.2-kg) limit on herring possession in the applicable AM Area, as described in paragraph (d)(2) or (3) of this section, shall be in effect until the end of the NE multispecies fishing year. For example, the 2011 haddock incidental catch cap is specified for the period May 1, 2011-April 30, 2012, and the 2012 haddock catch cap would be specified for the period May 1, 2012-April 30, 2013. If the catch of haddock by herring midwater trawl vessels reached the 2011 incidental catch cap at any time prior to the end of the NE multispecies fishing year (April 30, 2012), the 2,000-lb (907.2-kg) limit on possession of herring in the applicable AM Area would extend through April 30, 2012. Beginning May 1, 2012, the 2012 catch cap would go into effect.

(5) Other regulated NE multispecies possession restrictions for some Atlantic herring vessels. A vessel issued a Category A or B Herring Permit on a declared herring trip, regardless of area fished or gear used, or a vessel issued a Category C, D, or E Herring Permit and fishing with midwater trawl gear pursuant to § 648.80(d), may possess and land haddock, and up to 100 lb (45 kg), combined, of regulated NE multispecies other than haddock, in accordance with the requirements in § 648.80(d) and (e). Such fish may not be sold for human consumption.

* * * * *

8. Amend § 648.87 as follows:

a. Remove paragraphs (b)(1)(ii)(A) through (F);

b. Revise paragraph (b)(1)(iii)(B) introductory text, paragraph (b)(1)(iii)(B)(1) section heading, and paragraphs (b)(1)(iii)(B)(3), (b)(1)(v)(B), and (b)(2) introductory text; and

c. Remove and reserve paragraphs (b)(2)(ii) and (b)(2)(xii).

The revisions read as follows:

§ 648.87 Sector allocation.

* * * * *

(b) * * *

(1) * * *

(iii) * * *

(B) Overage penalty if there is insufficient ACE to cover an overage. If a sector exceeds an ACE allocated to it during the previous fishing year, but disbands in the year following the overage, or otherwise does not have sufficient ACE to address the overage pursuant to this paragraph (b)(1)(iii) based upon the cumulative PSCs of permits/vessels participating in that sector during the fishing year following the overage, individual permit holders that participated in the sector during the fishing year in which the overage occurred shall be responsible for reducing their DAS/ACE to account for that overage in the subsequent fishing year, as follows:

(1) ACE reduction. * * *

* * * * *

(3) Fishing prohibition. If a sector does not disband following an overage, but otherwise does not have sufficient ACE to cover an overage based upon the PSC of participating permits, that sector's ACE for the stock for which the overage occurred shall be temporarily reduced to zero for the following fishing year, and that sector shall be prohibited from fishing on a sector trip in the stock area associated with the stock for which the ACE was exceeded during the following year, unless and until that sector can acquire sufficient ACE from another sector to cover the remaining overage from the previous fishing year.

* * * * *

(v) * * *

(B) Weekly enforcement report. Each sector must submit weekly reports to NMFS stating any compliance/enforcement issues, as instructed by the Regional Administrator. These weekly enforcement reports must be submitted no later than 0700 hr on the second Monday after the reporting week, as defined in this part.

* * * * *

(2) Operations plan and sector contract. To be approved to operate, each sector must submit an operations plan and preliminary sector contract to the Regional Administrator no later than September 1 prior to the fishing year in which the sector intends to begin operations, unless otherwise instructed by NMFS. A final roster and sector contract must be submitted by December 1 prior to the fishing year in which the sector intends to begin operations, unless otherwise instructed by NMFS. The operations plan may cover a 1- or 2-year period, provided the analysis required in paragraph (b)(3) of this section is sufficient to assess the impacts of sector operations during the 2-year period and that sector membership, or any other parameter that may affect sector operations during the second year of the approved operations plan, does not differ to the point where the impacts analyzed by the supporting National Environmental Policy Act (NEPA) document are compromised. Each vessel and vessel operator and/or vessel owner participating in a sector must agree to and comply with all applicable requirements and conditions of the operations plan specified in this paragraph (b)(2) and the letter of authorization issued pursuant to paragraph (c)(2) of this section. It shall be unlawful to violate any such conditions and requirements unless such conditions or restrictions are identified in an approved operations plan as administrative only. If a proposed sector does not comply with the requirements of this paragraph (b)(2), NMFS may decline to propose for approval such sector operations plans, even if the Council has approved such sector. At least the following elements must be contained in either the final operations plan or sector contract submitted to NMFS:

* * * * *

9. Amend § 648.88 as follows:

a. Revise section headings, and paragraphs (a) and (b); and

b. Remove paragraphs (c) through (d).

The revisions read as follows:

§ 648.88 Multispecies stock area definitions.

(a) Definition of stock areas. The species stock areas applicable for possession and trip limits specified in § 648.86, recreational minimum and maximum fish sizes, possession limits, and seasons specified in § 648.89, and for determining areas applicable to sector allocations of ACE pursuant to § 648.87(b) are defined in paragraphs (1) through (17) of this section. For stocks that have incidental catch TACs pursuant to § 648.85(b), the areas also identify stock areas associated with those incidental catch TACs. Copies of a chart depicting these areas are available from the Regional Administrator upon request.

(1) GOM cod stock area. The GOM cod stock is defined as the area bounded on the north and west by the coastline of the United States, on the east by the U.S./Canadian maritime boundary, and on the south by straight lines connecting the following points in the order stated:

BILLING CODE 3510-22-P

(2) GB cod stock area. The GB cod stock is the area defined by straight lines connecting the following points in the order stated:

(3) Reserved

(4) Reserved

(5) GB haddock stock area. The GB Haddock Stock Area is defined as the area bounded on the west by the coastline of the United States, on the south by a line running from the east-facing coastline of North Carolina at 35° N lat. until its intersection with the EEZ, on the east by the U.S./Canadian maritime boundary, and bounded on the north by straight lines connecting the following points in the order stated:

(6) GOM haddock stock area. The GOM Haddock Stock Area is defined as the area bounded on the north and west by the coastline of the United States, on the east by the U.S./Canadian maritime boundary, and on the south by straight lines connecting the following points in the order stated:

(7) GB yellowtail flounder stock area. The GB yellowtail flounder stock area is the area bounded by straight lines connecting the following points in the order stated:

(8) SNE/MA yellowtail flounder stock area.

(i) For the purposes of identifying stock areas for trip limits specified in § 648.86, and for determining areas applicable to sector allocations of SNE/MA yellowtail flounder ACE pursuant to § 648.87(b), the SNE/MA yellowtail flounder stock area is the area bounded by straight lines connecting the following points in the order stated:

(ii) For the purposes of the Regular B DAS Program, the SNE/MA yellowtail flounder B DAS stock area is the area bounded on the north, east, and south by straight lines connecting the following points in the order stated:

(9) CC/GOM yellowtail flounder stock area.

(i) For the purposes of identifying stock areas for trip limits specified in § 648.86, and for determining areas applicable to sector allocations of CC/GOM yellowtail flounder ACE pursuant to § 648.87(b), the CC/GOM yellowtail flounder stock area is defined as the area bounded on the north and west by the coastline of the United States, on the east by the U.S./Canadian maritime boundary, and on the south by straight lines connecting the following points in the order stated:

(ii) For the purposes of the Regular B DAS Program pursuant to § 648.85(b), the CC/GOM yellowtail flounder B DAS stock area is the area defined by straight lines connecting the following points in the order stated:

(10) American plaice stock area. The American plaice stock area is defined as the area bounded on the north and west by the coastline of the United States, on the east by the U.S./Canadian maritime boundary, and bounded on the south by a straight line running from the east-facing coastline of North Carolina at 35° N lat. until its intersection with the EEZ. The coordinates for the area can be found in paragraph (b) of this section.

(11) Witch flounder stock area. The witch flounder stock area is defined as the area bounded on the north and west by the coastline of the United States, on the east by the U.S./Canadian maritime boundary, and bounded on the south by a straight line running from the east-facing coastline of North Carolina at 35° N lat. until its intersection with the EEZ. The coordinates for the area can be found in paragraph (b) of this section.

(12) GB winter flounder stock area. The GB winter flounder stock area is the area bounded by straight lines connecting the following points in the order stated:

(13) GOM winter flounder stock area. The GOM Winter Flounder Stock Area is the area bounded by straight lines connecting the following points in the order stated:

(14) SNE/MA winter flounder stock area. The SNE winter flounder stock area is the area defined by straight lines connecting the following points in the order stated:

(15) Redfish stock area. The redfish stock area is defined as the area bounded on the north and west by the coastline of the United States, on the east by the U.S./Canadian maritime boundary, and bounded on the south by a straight line running from the east-facing coastline of North Carolina at 35° N lat. until its intersection with the EEZ. The coordinates for the area can be found in paragraph (b) of this section.

(16) White hake stock area. The white hake stock area is defined as the area bounded on the north and west by the coastline of the United States, bounded on the east by the U.S./Canadian maritime boundary, and bounded on the south by a straight line running from the east-facing coastline of North Carolina at 35° N lat. until its intersection with the EEZ. The coordinates for the area can be found in paragraph (b) of this section.

(17) Pollock stock area. The pollock stock area is defined as the area bounded on the north and west by the coastline of the United States, on the east by the U.S./Canadian maritime boundary, and bounded on the south by a straight line running from the east-facing coastline of North Carolina at 35° N lat. until its intersection with the EEZ. The coordinates for the area can be found in paragraph (b) of this section.

(b) Stock area for unit stocks. The stock area for all unit stocks listed in paragraph (a) of this section (American plaice, witch flounder, redfish, white hake, and pollock) are defined by straight lines connecting the following points in the order stated:

10. Amend § 648.89 as follows:

1. Revise Table 1 to Paragraph (b)(1), paragraph (b)(2)(ii), paragraphs (c)(1), (2), and (8); and

2. Remove paragraph (g).

The revisions read as follows:

§ 648.89 Recreational and charter/party vessel restrictions.

* * * * *

(b) * * *

(1) * * *

(2) * * *

(ii) Transiting. If minimum size specified for cod and haddock differ between stock areas, vessels in possession of cod or haddock that meet the minimum size specified for fish caught in one stock area, as specified in § 648.88, may transit a different stock area with that cod and haddock, provided all bait and hooks are removed from fishing rods, and any cod and haddock on board has been gutted and stored.

* * * * *

(c) * * *

(1) Private recreational vessels. Persons aboard private recreational fishing vessels during the open season listed in the column titled “Open Season” in table 2 to paragraph (c)(1), may not possess more fish in or from the EEZ than the amount listed in the column titled “Possession Limit” in table 2 to paragraph (c)(1). Persons aboard private recreational fishing vessels may not possess stocks, as specified in the column titled “Stock” in table 2 to paragraph (c)(1), in or from the EEZ during that stock's closed season as specified in the column titled “Closed Season” in table 2 to paragraph (c)(1).

(2) Charter or Party Boats. Persons aboard charter or party boats during the open season listed in the column titled “Open Season” in table 3 to paragraph (c)(2), may not possess more fish in or from the EEZ than the amount listed in the column titled “Possession Limit” in table 3 to paragraph (c)(2). Persons aboard charter or party boats may not possess stocks, as specified in the column titled “Stock” in table 3 to paragraph (c)(2), in or from the EEZ during that stock's closed season as specified in the column titled “Closed Season” in table 3 to paragraph (c)(2).

BILLING CODE 3510-22-C

* * * * *

(8) Transiting. If the possession limits specified in paragraphs (c)(1) and (2) of this section for cod and haddock differ between stock areas, vessels in possession of cod or haddock that meet the possession limit specified for fish caught in one stock area, as specified in § 648.88, may transit a different stock area with that cod and haddock, provided all bait and hooks are removed from fishing rods, and any cod and haddock on board has been gutted and stored.

* * * * *

11. Amend § 648.90 as follows:

a. Revise paragraph (a)(4)(iii) introductory text;

b. Redesignate paragraphs (a)(4)(iii)(A) through (H) to (a)(4)(iii)(B) to (I);

c. Add new paragraph (a)(4)(iii)(A);

d. Revise newly redesignated paragraph (a)(4)(iii)(I); and

e. Revise paragraphs (a)(5)(i)(A), and (a)(5)(iv)(A) and (B).

The revisions and additions read as follows:

§ 648.90 NE multispecies assessment, framework procedures and specifications, and flexible area action system.

* * * * *

(a) * * *

(4) * * *

(iii) ABC/ACL distribution. The ABCs/ACLs adopted by the Council for each regulated species or ocean pout stock pursuant to this paragraph (a)(4) shall be subdivided among the various sub-components of the fishery, as specified in paragraphs (a)(4)(iii)(A) through (I) of this section. For transboundary stocks managed by the Understanding, pursuant to § 648.85(a), the distribution of ABC/ACLs described in paragraphs (a)(4)(iii)(A) through (I) of this section shall be based upon the catch available to U.S. fishermen. The Council may revise its recommendations for the distribution of ABCs and ACLs among these and other sub-components through the process to specify ABCs and ACLs, as described in this paragraph (a)(4). Distribution of the ACL for each stock available to the NE multispecies fishery between and among commercial and recreational components of the fishery may be implemented through a framework adjustment pursuant to this section. Any changes to the distribution of ACLs to the NE multispecies fishery shall not affect the implementation of AMs based upon the distribution in effect at the time of the overage that triggered the AM.

(A) Recreational allocation. Unless otherwise specified in paragraph (a)(5) of this section, recreational catches shall be compared to the ACLs allocated pursuant to this paragraph (a)(4)(iii)(A) for the purposes of determining whether adjustments to recreational measures are necessary, pursuant to the recreational fishery AMs specified in § 648.89(f).

(1) Stocks allocated. Unless otherwise specified in this paragraph (a)(4)(iii)(A), the ABCs/ACLs for GOM cod and GOM haddock set pursuant to paragraph (a)(4) of this section shall be divided between commercial and recreational components, based upon the average proportional catch of each component for each stock during fishing years 2001 through 2006.

(2) Process for determining if a recreational allocation is necessary. A recreational allocation will not be made if it is determined that, based upon available information, the ACLs for these stocks are not being fully harvested by the NE multispecies fishery, or if the recreational harvest, after accounting for State waters catch pursuant to paragraph (a)(4)(iii)(B) of this section, is less than 5 percent of the overall catch for a particular stock of regulated species or ocean pout.

* * * * *

(I) Regulated species or ocean pout catch by the NE multispecies commercial fisheries. Unless otherwise specified in the ACL recommendations developed pursuant to paragraph (a)(4)(i) of this section, after all of the deductions and considerations specified in paragraphs (a)(4)(iii)(A) through (H) of this section, the remaining ABC/ACL for each regulated species or ocean pout stock shall be allocated to the NE multispecies commercial fishery, pursuant to paragraphs (a)(4)(iii)(I)(1) through (3) of this section.

(1) Commercial allocation. Unless otherwise specified in paragraph (a)(4)(iii)(I), the ABC/ACL for regulated species or ocean pout stocks available to the commercial NE multispecies fishery shall be divided between vessels operating under approved sector operations plans as described at § 648.87(c), based upon the cumulative PSCs of vessels participating in sectors calculated pursuant to § 648.87(b)(1)(i)(E), and vessels operating under the provisions of the common pool, as defined in this part. The ABC/ACL of each stock not allocated to sectors pursuant to § 648.87(b)(1)(i)(E) (i.e., Atlantic halibut, ocean pout, windowpane flounder, and Atlantic wolffish) that is available to the commercial NE multispecies fishery shall be allocated entirely to the common pool, and catch from sector and common pool vessels shall be attributed to this allocation. Unless otherwise specified in paragraph (a)(5) of this section, regulated species or ocean pout catch by common pool and sector vessels shall be deducted from the sub-ACL/ACE allocated pursuant to this paragraph (a)(4)(iii)(I)(1) for the purposes of determining whether adjustments to common pool measures are necessary, pursuant to the common pool AMs specified in § 648.82(n), or whether sector ACE overages must be deducted, pursuant to § 648.87(b)(1)(iii).

(2) Reserved

* * * * *

(5) * * *

(i) * * *

(A) Excessive catch by common pool vessels. If the catch of regulated species and ocean pout by common pool vessels exceeds the amount of the ACL specified for common pool vessels pursuant to paragraph (a)(4)(iii)(I) of this section, then the AMs described in § 648.82(n) shall take effect. If such catch does not exceed the portion of the ACL specified for common pool vessels pursuant to paragraph (a)(4)(iii)(I) of this section, then no AMs shall take effect for common pool vessels.

* * * * *

(iv) * * *

(A) Threshold for implementing the Atlantic sea scallop fishery AMs for SNE yellowtail flounder and southern windowpane flounder. If scallop fishery catch exceeds the scallop fishery sub-ACL for SNE yellowtail flounder or southern windowpane flounder, as specified in paragraph (a)(4) of this section, by 50 percent or more, or if scallop fishery catch exceeds the scallop fishery sub-ACL by any amount and total catch exceeds the overall ACL for that stock, then the applicable scallop fishery AM will take effect, as specified in § 648.64 of the Atlantic sea scallop regulations.

(B) Threshold for implementing the Atlantic sea scallop fishery AM for GB yellowtail flounder and northern windowpane flounder. If scallop fishery catch exceeds scallop fishery sub-ACL for GB yellowtail flounder or northern windowpane flounder, as specified in paragraph (a)(4) of this section, and total catch exceeds the overall ACL for that stock, then the applicable scallop fishery AM will take effect, as specified in § 648.64 of the Atlantic sea scallop regulations.

* * * * *

§§ 648.4, 648.10, 648.13, 648.14, 648.64, 648.80, 648.82, 648.83, 648.85, 648.86, 648.87, 648.90, and 648.201 [Amended]

12. In the table below, for each of the locations shown in the “Location” column, remove the phrase indicated in the “Remove” column and replace it with the phrase indicated in the “Add” column for the number of times indicated in the “Frequency” column.

BILLING CODE 3510-22-P

BILLING CODE 3510-22-C

[FR Doc. 2025-22226 Filed 12-5-25; 8:45 am]

BILLING CODE 3510-22-P